DEPARTMENT OF THE INTERIOR

Fish and Wildlife Service

Conference of the Parties to the Convention on International Trade in Endangered Species of Wild Fauna and Flora (CITES); Twelfth Regular Meeting; Proposed Resolutions, Decisions, and Agenda Items Being Considered; Taxa Being Considered for Amendments to the CITES Appendices; Public Meeting Reminder

AGENCY: Fish and Wildlife Service, Interior.

ACTION: Notice.

SUMMARY: The United States, as a Party to the Convention on International Trade in Endangered Species of Wild Fauna and Flora (CITES), may submit proposed resolutions, decisions, and agenda items for consideration at meetings of the Conference of the Parties to CITES. The United States may also propose amendments to the CITES Appendices for consideration at meetings of the Conference of the Parties. The twelfth regular meeting of the Conference of the Parties to CITES (COP12) will be held in Santiago, Chile, November 3-15, 2002. With this notice we: describe the U.S. approach for COP12;describe resolutions, decisions, and agenda items that the United States is considering submitting for consideration at COP12; describe proposed amendments to the CITES Appendices (species proposals) that the United States is considering submitting for consideration at COP12; invite your comments and information on these potential proposals; and remind you of a public meeting to discuss these potential submissions, which was announced in our Federal Register notice of March 27, 2002 (67 FR 14728).

DATES: The public meeting will be held on April 17, 2002, at 1:30 p.m. We will consider written information and comments you submit concerning potential species proposals, proposed resolutions, proposed decisions, and agenda items that the United States is considering submitting for consideration at COP12, and other items relating to COP12, if we receive them by May 17, 2002.

ADDRESSES:

Public Meeting

The public meeting will be held in Sidney Yates Auditorium, in the Department of the Interior at 18th and C Streets, NW., Washington, DC Directions to the building can be obtained by contacting the Division of Management Authority (see “FOR FURTHER INFORMATION CONTACT,” below). Please note that Sidney Yates Auditorium is accessible to the handicapped and all persons planning to attend the meeting will be required to present photo identification when entering the building. Persons who plan to attend the meeting and who require interpretation for the hearing impaired should notify the Division of Management Authority as soon as possible.

Comment Submission

Comments pertaining to proposed resolutions, proposed decisions, and/or agenda items should be sent to the Division of Management Authority; U.S. Fish and Wildlife Service; 4401 North Fairfax Drive; Room 700; Arlington, VA 22203, or via E-mail at: cites@fws.gov, or via fax at: 703/358-2298. Comments pertaining to species proposals should be sent to the Division of Scientific Authority; U.S. Fish and Wildlife Service; 4401 North Fairfax Drive; Room 750; Arlington, VA 22203, or via E-mail at: scientificauthority@fws.gov, or via fax at: 703/358-2276. Comments and materials received will be available for public inspection, by appointment, from 8 a.m. to 4 p.m., Monday through Friday, at either the Division of Management Authority or the Division of Scientific Authority.

FOR FURTHER INFORMATION CONTACT: Andrea Gaski, Division of Management Authority, Branch of CITES Operations, phone: 703/358-2095, fax: 703/358-2298, E-mail: cites@fws.gov; or Robert R. Gabel, Division of Scientific Authority, phone: 703/358-1708, fax: 703/358-2276, E-mail: scientificauthority@fws.gov.

SUPPLEMENTARY INFORMATION:

Background

The Convention on International Trade in Endangered Species of Wild Fauna and Flora, hereinafter referred to as CITES or the Convention, is an international treaty designed to control and regulate international trade in certain animal and plant species that are now or potentially may be threatened with extinction if their trade is not controlled. These species are listed in Appendices to CITES, copies of which are available from the Division of Management Authority or the Division of Scientific Authority at the above addresses, from our World Wide Website at http://international.fws.gov/cites/cites.html, or from the official CITES Secretariat Website at http://www.cites.org/eng/append/index.shtml. Currently, 157 countries, including the United States, are Parties to CITES. CITES calls for biennial meetings of the Conference of the Parties, which review its implementation, make provisions enabling the CITES Secretariat in Switzerland to carry out its functions, consider amendments to the list of species in Appendices I and II, consider reports presented by the Secretariat, and make recommendations for the improved effectiveness of CITES. Any country that is a Party to CITES may propose amendments to Appendices I and II, resolutions, decisions, and agenda items for consideration by the other Parties.

This is our fourth in a series of Federal Register notices that, together with announced public meetings, provide you with an opportunity to participate in the development of the United States' negotiating positions for the twelfth regular meeting of the Conference of the Parties to CITES (COP12). We published our first such Federal Register notice on June 12, 2001 (66 FR 31686), and with it we requested information and recommendations on potential species amendments for the United States to consider proposing at COP12. Information on that Federal Register notice, and on species amendment proposals, is available from the Division of Scientific Authority at the above address. We published our second such Federal Register notice on July 25, 2001 (66 FR 38739), and with it we requested information and recommendations on potential resolutions, decisions, and agenda items for the United States to submit for consideration at COP12. You may obtain information on that Federal Register notice, and on proposed resolutions, proposed decisions, and agenda items, from the Division of Management Authority at the above address. We published our third such Federal Register notice on March 27, 2002 (67 FR 14728), and with it we announced a public meeting to discuss potential species proposals, proposed resolutions, proposed decisions, and agenda items that the United States is considering submitting for consideration at COP12. With that notice, we also provided information on how non-governmental organizations based in the United States can attend COP12 as observers. You may locate our regulations governing this public process in 50 CFR 23.31-23.39.

COP12 is scheduled to be held in Santiago, Chile, November 3-15, 2002.

I. U.S. Approach for COP12

What are the Priorities for U.S. Submissions to COP12?

Priorities for U.S. submissions to COP12 continue to be consistent with the overall objective of U.S. participation in the Convention: to maximize the effectiveness of the Convention in the conservation and sustainable use of species subject to international trade. During the public review process, we have identified over 80 proposals for amendments of the Appendices (species listing proposals), resolutions, decisions, and agenda items for possible submission for consideration at COP12. The majority of comments received through the public review process involved statements of support or disagreement for the various proposed actions with little biological or trade information or supporting justification.

We have undertaken initial assessments of the available trade and biological information on all of the species listing proposals as well as pertinent available data and information on the proposed resolutions, decisions, and agenda items. These assessments were made by considering the quality of information available; the presence, absence, and effectiveness of other mechanisms that may preclude the need for a CITES action to help conserve species in trade, and the relative importance of the need for and expected benefit of the proposed action. In addition to the information available on the various proposals, we also considered the following factors in arriving at the current provisional determinations:

(1) Does the proposed action address a serious wildlife trade issue that the United States is experiencing as a range country for species in trade? Since our primary responsibility is the conservation of our domestic wildlife resources, we will give native species our highest priority. We will place particular emphasis on terrestrial and freshwater species with the majority of their range in the United States and its territories that are or may be in significant trade; marine species that occur in U.S. waters or for which the United States is a major importer; and threatened and endangered species for which we and other Federal and State agencies already have statutory responsibility for protection and recovery. We also consider CITES listings as a proactive measure to monitor and manage trade in native species to preclude the need for the application of stricter measures, such as listing under the Endangered Species Act and/or inclusion in CITES Appendix I.

(2) Does the proposed action address a serious wildlife trade issue for species not native to the United States? As a major importer of wildlife and wildlife products, the United States has taken responsibility, by working in close consultation with range countries, for addressing cases of potential over-exploitation of exotic species in the wild. In some cases, the United States may not be a range country or a significant trading country for a species, but we will work closely with other countries to conserve species being threatened by unsustainable global trade. We will consider CITES listings for species not native to the United States, but for which we are a major importer, if that listing will assist in addressing cases of potential overexploitation of exotic species in the wild, and in preventing illegal, unregulated trade. These species will be prioritized based on the extent of trade and status of the species, and also the role the species play in the ecosystem, with emphasis on those species for which a CITES listing would offer the greatest conservation benefits to the species, associated species, and their habitat.

(3) Does the proposed action address difficulties in implementing or interpreting the Convention by the United States as an importing or exporting country, and would the proposed action contribute to the effective implementation of the Convention by all Parties? Differences in interpretation of the Convention by 157 Party nations can result in inconsistencies in the way it is implemented. In addition, wildlife trade is dynamic and ever-changing, thus presenting problems when established procedures are not readily applicable to new situations. The United States experiences some of these problems and inconsistencies directly through its own imports and exports, but we also learn of these difficulties through our participation in various fora, such as the CITES Standing Committee and the technical committees, and through discussions with other countries, non-governmental organizations, and the Secretariat. When the United States cannot resolve these difficulties unilaterally or through one-on-one discussions with trading partners, it may propose resolutions or decisions, usually in collaboration with other Parties, or have these topics placed on the agenda of the Conference of the Parties for discussion by all of the Parties.

(4) Does the proposed action improve implementation of the Convention by increasing the quality of information and expertise used to support decisions by the Parties? With increased complexity, sophistication, and specialization in the biological sciences and other disciplines, it is critical that the CITES Parties have the best available information upon which to base decisions that affect the conservation of wildlife resources as well as local peoples and economies. Where appropriate, the United States will recommend actions to ensure the availability of up-to-date and accurate information to the Parties, including through the establishment of relationships with relevant international bodies, including other conventions, interjurisdictional resource management agencies, and international non-governmental organizations with relevant expertise.

This notice provides a summary of our initial assessments and a preliminary likelihood of our submitting species proposals, resolutions, decisions, or agenda items for consideration at COP12. Final decisions on proposals for submission for COP12 will be made following a review and analysis of any additional information provided through the public review process leading up to the June 6, 2002, deadline for submission of proposals to the CITES Secretariat.

II. Recommendations for Resolutions, Decisions, and Agenda Items for the United States to Consider Submitting at COP12

In our Federal Register notice published on July 25, 2001 (66 FR 38739), we requested information and recommendations on potential resolutions, decisions, and agenda items for the United States to submit for consideration at COP12. We received recommendations for resolutions, decisions, and agenda items from the following organizations or individuals: Earthtrust; International Primate Protection League; International Wildlife Coalition; International Wood Products Association; Minnesota Natural Heritage and Nongame Research Program; Safari Club International; and Whale and Dolphin Conservation Society.

We considered all of the recommendations of the above organizations and individuals, as well as the U.S. approach for COP12 discussed above, when compiling a list of possible resolutions, decisions, and agenda items that the United States is likely to submit for consideration by the Parties at COP12; and when compiling lists of resolutions, decisions, and agenda items for consideration at COP12 that the United States either is currently undecided about submitting, is not considering submitting at this time, or plans to address in other ways. There are some issues for which the United States may consider submitting documents, depending on the outcome of discussions in the CITES Animals, Plants, and Standing Committees, or additional consultations with range country governments and knowledgeable experts.

We welcome your comments and information submissions regarding the resolutions, decisions, and agenda items that the United States is likely to submit, currently undecided about submitting, or currently not planning to submit.

A. What Resolutions, Decisions, and Agenda Items is the United States Likely To Submit for Consideration at COP12?

1. Process for Establishment, Implementation, and Monitoring of Appendix-II Export Quotas

The United States is considering submitting a document related to the establishment and implementation of CITES Appendix-II export quotas, as well as to current problems related to monitoring and regulating appropriate use of such quotas. The United States is a major importer of live wildlife and wildlife products covered by export quotas.

The use of Appendix-II export quotas has increased significantly over the past several years, and, in 2001, 74 Parties and one non-Party reported such quotas to the CITES Secretariat (Notification to the Parties No. 2001/041; “Revised export quotas for 2001”). In Notification to the Parties No. 2001/044 (“Management of export quotas and combating fraudulent use of permits and certificates”), the Secretariat noted that the Standing Committee, at its forty-fifth meeting, accepted a report from the Secretariat which was concerned, in part, with the management of export quotas and current practices in this area that are subject to abuse. While this Notification included a number of excellent recommendations to the Parties as to how they could improve the management of their export quota programs, we believe that the quota process would benefit from a more encompassing review and standardization.

Under CITES, there is no formal generic document that provides guidance to the Parties on the establishment, implementation, monitoring, and regulation of a program for Appendix-II export quotas. While a number of Resolutions are concerned with export quotas for Appendix-I species (such as Resolution Conf. 10.15 (Rev.); “Establishment of quotas for markhor hunting trophies”), there is no equivalent Resolution for export quotas for Appendix-II species, which comprise the vast majority of trade under CITES export quotas.

The United States is undecided at this point in time as to whether it would be more appropriate to submit, for consideration at COP12, a draft resolution or a discussion document on this issue. We plan to discuss this in greater detail with the Secretariat prior to making a final decision.

2. Exchange of Scientific Specimens

At the eleventh meeting of the Plants Committee in September 2001, Switzerland submitted a proposal to exempt herbarium specimens of Appendix-II plant species from CITES controls. The Swiss proposal would have annotated plant listings so that such specimens would be treated as parts or derivatives that would have been excluded from the listings. This proposal was opposed by the United States and others on the basis that the exemption was based on the purpose of the trade in such specimens, not necessarily the characteristics of the specimens themselves, as well as the fact that the Convention already contains specific provisions for exempting such specimens in Article VII, paragraph 6. This exemption is implemented through a registration process described in Resolution Conf. 11.15. We received a comment from the Minnesota Natural Heritage and Nongame Research Program suggesting difficulties in the cross-border movement of vegetative material of CITES-listed species for genetic analyses. In addition, we have heard comments from scientists both within the United States and elsewhere regarding the lack of implementation of the exemption for scientific specimens in many countries, and we have encountered examples of misapplication of the exemption in the issuance of permits by some countries. Comments from scientists have focused mainly on the difficulties encountered in attempting to exchange specimens among institutions for study for taxonomic review, often as part of biodiversity surveys to document the biota of a country or region. This work provides an essential foundation for conservation efforts at both the species and ecosystem levels.

We note that the CITES Parties, in Conf. 11.15, recommended that “Parties take every opportunity within the scope of the Convention to encourage scientific research on wild fauna and flora, where this may be of use in conserving species that are threatened with extinction or that may become so.” We are concerned that the lack of implementation of the provisions of the Convention to facilitate scientific exchange may be hampering much-needed work in the area of biodiversity assessments and conservation. Therefore, the United States plans to develop a discussion document for presentation at COP12 to ask the Parties to consider ways to encourage broader implementation of the scientific exchange procedures of Conf. 11.15, and to make these procedures known to the scientific community.

B. On What Resolutions, Decisions, and Agenda Items Is the United States Still Undecided, Pending Additional Information and Consultations?

1. Establishment of Streamlined Procedures for Transporting Crocodilian and Other Reptile Product Samples Across International Borders

The United States submitted a draft decision (Doc. 11.52) to the eleventh meeting of the Conference of the Parties to CITES (COP11) in Kenya in April 2000, which proposed that the trade restrictions on crocodilian skin swatches be reviewed to determine if streamlined permit procedures could be adopted for samples being taken to international trade shows, provided they were not sold at such exhibitions. The United States submitted this draft decision in an attempt to lessen the regulatory burden and facilitate legitimate trade movements of processed crocodilian skin samples, which, in our opinion, pose minimal conservation risks.

A decision was adopted at COP11 (Decision 11.164; Regarding Movement of Sample Reptile Skins and Other Related Products) requiring the Secretariat to study this issue with the Animals Committee, World Conservation Union (IUCN) Crocodile Specialist Group, and the World Customs Organization. Decision 11.164 also expanded the scope of this issue by including skin samples from all reptile species, not just crocodilians. The Secretariat is required to submit a resolution to COP12 on this issue, based on these discussions.

The United States proposes a draft negotiating position that supports expansion of this streamlined process to skin samples of all CITES-listed reptile species currently in trade. Sample pieces of reptile skins are used to provide a buyer or potential buyer a way to determine the quality of tanning and the color of skins. Although the samples themselves are not for sale, they are used to generate sales. The international movement of these samples generates considerable paperwork for both the importing and exporting countries and may result in delays for the importer and/or exporter. We believe a streamlined permit system could facilitate legitimate trade in reptile skin samples, while maintaining strict permitting requirements for commercial trade in products.

The United States is considering submitting a draft resolution on this issue, but is currently undecided pending the receipt of information from the Secretariat on the content of the resolution that they will submit to COP12. The United States may develop a negotiating position in support of the Secretariat's resolution, or it may elect to submit an alternative draft resolution on this issue. The United States will make a decision on this issue after reviewing the draft resolution prepared by the Secretariat.

2. Biological Listing Criteria

At the ninth regular meeting of the Conference of the Parties to CITES (COP9), the Parties adopted new criteria for listing and de-listing species in the Appendices. These criteria, contained in Resolution Conf. 9.24, were more quantitative than previous guidelines and provided a format for proposals to add or delete taxa from Appendices I and II. Conf. 9.24 also requires an evaluation of the effectiveness and applicability of the new criteria before COP12. Toward that end, a Criteria Working Group was established at COP11 to review the criteria, gather input from the Animals and Plants Committees and from the Parties, and make recommendations for improving the criteria. The United States has played an active role in the Criteria Working Group, and submitted detailed comments on each of its reports. The Chairs of the Animals and Plants Committees reviewed the final recommendations of the Working Group and comments by the Parties, and reported to the Standing Committee in March 2002. We are currently reviewing these final recommendations, which, we believe, should promote precautionary, objective, and scientific evaluation of species in international trade. After reviewing the recommendations of the Standing Committee, the United States may consider submitting a proposal at COP12 to improve or expand upon the recommendations, if we feel it is prudent to increase emphasis on the precautionary approach or certain scientific principles, or make the criteria more risk averse.

3. Concerning Whaling and Whale Stocks

The United States continues to participate in efforts in the International Whaling Commission (IWC) to develop a Revised Management Scheme that includes an effective inspection and observation scheme in the event that the moratorium on commercial whaling is lifted. This is important to the deliberations under CITES because, in 1978, the IWC requested the assistance of CITES in enforcing its moratorium on commercial whaling. This request was answered by the CITES Parties in Resolution Conf. 2.9 (later incorporated into Resolution Conf. 11.4; Conservation of cetaceans, trade in cetacean specimens and the relationship with the International Whaling Commission), which recommended that “the Parties agree not to issue any import or export permit or certificate” for international commercial trade in whale species. These complementary actions established a strong relationship between the two organizations, whereby CITES has agreed to reflect IWC decisions in its Appendices.

The fifty-fourth meeting of the IWC will be convened in Shimonoseki, Japan, May 20-23, 2002. The United States will be particularly interested in population assessments for whale species that are currently subject to commercial and scientific whaling, or that may be targeted for future whaling. Based on the results of the IWC meeting, the United States may submit a draft resolution or discussion document for consideration at COP12, concerning whaling and whale stocks under the competence of the IWC.

4. Introduction From the Sea

Article IV of the Convention has provisions for trade in CITES-listed species taken in the marine environment outside the jurisdiction of any country (the high seas), known as “introduction from the sea.” At COP11 in April 2000, the Government of Australia submitted a draft resolution (Doc. 11.18) on interpretation and implementation of CITES regarding introduction from the sea. The Parties were unable to reach agreement on a resolution and continue to disagree on how to apply the Convention when specimens enter trade from the high seas. This has hindered a thorough discussion of listing proposals for certain marine species. The United States believes there is still a need for the Parties to agree to a standard interpretation of terms and an internationally accepted system to implement introduction from the sea. In February 2002, the Sub-Committee on Fish Trade (within the Committee on Fisheries [COFI] of the Food and Agriculture Organization of the United Nations [FAO]) met in Bremen, Germany, to develop a work plan to explore CITES issues related to international fish trade. The United States participated in the meeting. The United States is currently undecided on whether to develop a discussion document on this issue for COP12. We believe introduction from the sea warrants further discussion and welcome draft language or comments.

5. Relationship Between CITES and FAO

At its twenty-fourth meeting (February-March 2001), the COFI of FAO took two decisions concerning CITES. It dictated that: (a) A Technical Consultation be convened to review the CITES listing criteria as they relate to commercially exploited marine species; and (b) the Sub-Committee on Fish Trade at its February 2002 meeting in Bremen, Germany, develop a plan for review of CITES issues. The Technical Consultation, which was convened in October 2001 in Windhoek, Namibia, resulted not only in the generation of important contributions to the CITES Criteria Review, but in a strong collaboration between the two bodies. As marine issues gain more attention in CITES, cooperation between the two fora will become more important and should be encouraged. The United States is considering but is currently undecided on whether to submit a discussion document to promote this cooperation.

6. Protocol Concerning Specially Protected Areas and Wildlife (SPAW) in the Wider Caribbean Region

The United States received a recommendation from the International Wildlife Coalition that it propose a resolution at COP12 calling for closer cooperation between the Secretariats of CITES and the SPAW Protocol. The United States notes the initiative of the CITES Secretariat (approved at COP11) to closely collaborate with Secretariats of Regional Seas Conventions and other regional United Nations Environment Programme (UNEP) offices, as well as the Secretariats of other biodiversity-related Multilateral Environmental Agreements (MEAs) in matters of implementation, enforcement, and capacity building at the regional level. At the First Meeting of the Contracting Parties to SPAW, a decision was taken to promote and facilitate the conclusion of Memoranda of Understanding between the two Secretariats and to conclude an agreement for a two-year pilot on the joint funding of a Programme Officer in the Regional Co-ordinating Unit of the Caribbean Environment Programme. The United States is undecided whether it may be appropriate to submit a draft resolution at COP12 to reinforce this effort.

7. Collaboration Between CITES and the World Customs Organization

One of the objectives of the CITES “Strategic Vision through 2005,” adopted by the Parties at COP11, is for CITES to increase cooperation and coordination with related conventions, agreements, and associations. The United States agrees with this objective and is very supportive of synergy and cooperation with international organizations, including the World Customs Organization (WCO). The United States is considering whether to submit a discussion document to COP12 to promote collaboration between CITES Parties and the WCO. The United States remains undecided as to whether to submit a discussion document to COP12 on this issue. We are seeking your comments and information submissions regarding this matter.

8. Implementation Issues Related to Appendix-III Timber Species

We received a comment from the International Wood Products Association (IWPA) requesting that the United States submit to COP12 the recommendations that it presented in document Doc. PC.11.24.5 at the eleventh meeting of the Plants Committee, which were intended to help the Parties implement new Appendix-III timber listings. The IWPA pointed out that implementation of the recent listing of ramin (Gonystylus spp.) in Appendix III by Indonesia proved to be difficult for IWPA members due to conflicting and incomplete information, and that members experienced costly delays as shipments were held up at ports of import due to confusion over the effective date of the listing as well as to what types of ramin wood products were regulated.

Since COP11, two new timber species, Spanish cedar (Cedrela odorata) and ramin have been listed in CITES Appendix III. The United States, a major importing country of both species, was not consulted by the listing countries prior to the listings, as recommended in Resolution Conf. 9.25 (Rev.). We believe that lack of such consultation of other range countries and major importing countries prior to an Appendix-III listing, particularly a listing of a timber species, may hinder the abilities of those countries to implement the listing in a timely and effective manner, and does not provide those countries with an opportunity to comment on the potential effects of a given Appendix-III listing. Also, U.S. port inspection officials have encountered difficulties in identifying and inspecting shipments of timber products for Appendix-III timber species, such as ramin, whose listings are not annotated to include only logs, sawn wood, and veneer sheets.

The United States is considering, but remains undecided, about submitting a discussion document to COP12 to raise the issue of problems experienced by the Parties in implementing the recent Appendix-III timber listings and provide some recommendations to help the Parties implement such timber listings in the future. It was agreed at the forty-fifth meeting of the Standing Committee in June 2001 that the CITES Secretariat would, with the guidance of a working group of which the United States is a member, develop for consideration at the forty-sixth meeting of the Standing Committee in March 2002, a proposal addressing practical CITES implementation issues. This proposal, as revised by the Standing Committee, would then be submitted for consideration at COP12.

Based on input from the working group, the Secretariat submitted for consideration at the forty-sixth meeting of the Standing Committee a document that included a draft amendment to CITES Resolution Conf. 11.1 (Establishment of Committees) to establish an Implementation Subcommittee under the Standing Committee to deal with implementation issues, such as those that the United States presented to the Plants Committee in Doc. PC.11.24.5. However, in its document, the Secretariat recommended against establishing an Implementation Subcommittee. In addition, some Parties had concerns about such a permanent subcommittee. Subsequently, at its forty-sixth meeting, the Standing Committee reconvened its working group and tasked it with reviewing, during the course of the meeting, the Secretariat's document. The working group discussed various means of addressing the need for a body within CITES to address implementation issues, while taking into consideration the concerns of the Secretariat and some of the Parties. One of the options discussed by the working group was to change the structures or Terms of References of the technical committees (Animals and Plants Committees) within CITES to better address implementation issues. The issue was not resolved at the forty-sixth meeting of the Standing Committee, and was referred to the forty-seventh meeting, immediately preceding COP12, for further discussion.

The United States submitted a discussion document at the forty-sixth meeting of the Standing Committee on the issue of implementation problems related to the inclusion in the CITES listings of secondary products, including those from Appendix-III timber species. The United States intends to analyze the Standing Committee's discussions of this issue and the Implementation Committee issue before deciding how to proceed at COP12. Based on these analyses, the United States will decide if it should submit a discussion document on the Appendix-III timber listing implementation issue and/or a draft amendment to CITES Resolution Conf. 11.1. We welcome your comments and information submissions regarding this matter.

C. What Resolutions, Decisions, and Agenda Items Is the United States Not Planning To Submit for Consideration at COP12, Unless it Receives Significant Additional Information?

1. Use of a Standardized, Externally Verified DNA Testing Protocol for Species Determination

We received comments from Earthtrust recommending that the United States propose a resolution for COP12 that sets forth a standardized, externally verified DNA market testing protocol to be employed whenever DNA testing of any species is used to monitor and enforce the Convention. The United States has actively participated in efforts aimed at developing protocols for and coordination of activities concerning DNA testing in both the International Whaling Commission (IWC) and CITES, and will continue to do so. Although Earthtrust's focus is on whales, the proposed resolution language would affect all current DNA testing for CITES enforcement in the United States and would overrule our ability to conduct testing by requiring that all testing be done by an independent laboratory. Therefore, although the United States strongly believes that DNA testing should be an open, transparent process, we do not intend to propose a resolution mandating a standardized DNA testing protocol for all CITES species determinations. However, the United States will continue to work within the IWC on appropriate whale DNA testing protocols that allow transparency and external scrutiny.

2. Guidelines for Handling and Disposition of Confiscated Non-Human Primates

The International Primate Protection League (IPPL) and the International Wildlife Coalition proposed that the United States submit a resolution outlining confiscation and disposition procedures for live primates. The International Wildlife Coalition also proposed that this resolution provide specific guidance to Parties on confiscation procedures when there is a risk, or perceived risk, that an animal could transmit disease to humans. The IPPL and the International Wildlife Coalition are proposing this resolution in response to information they received from media reports describing the drowning of two confiscated primates in Egypt. The United States agrees that the recommendations of the IPPL and the International Wildlife Coalition raise important issues that should be discussed further by the CITES Parties, but does not propose to address them through a resolution at this time.

In Resolution Conf. 10.7, the CITES Parties adopted guidelines that address disposition of confiscated live specimens of species included in the Appendices. Parties are responsible, through these guidelines, to ensure that confiscated live animals are disposed of appropriately and humanely. Absent new facts that indicate a problem with the current guidance, we are not prepared to offer amendments. In the Egyptian case however, the CITES Secretariat has released a statement indicating that Egypt has confirmed the drowning of the two primates after confiscation from a known Egyptian-Nigerian wildlife smuggler, and that the Egyptian Minister of Agriculture is investigating the matter. The CITES Secretariat has also requested that Nigeria investigate this incident and coordinate with Egypt to avoid this type of illegal trade. The outcome of these contacts will be reported to the CITES Secretariat.

We have not received a response from the Egyptian Management Authority regarding our inquiry into this matter. We are pleased with the decision of the Egyptian authorities to investigate the incident and to provide further details to the CITES Secretariat. The United States will wait for this investigation to be concluded and the results reported before considering recommendations for additional guidance to the Parties regarding the handling and disposition of confiscated live primates.

3. Defining the Role and Mandate of the CITES Secretariat

The International Wildlife Coalition proposed that the United States submit an agenda item clearly defining the role, mandate, and scope of authority of the CITES Secretariat. The International Wildlife Coalition feels that, as the Convention has increased in size and complexity, the Secretariat has had to prioritize its activities, and has not always done so in a way that is acceptable to the Parties. The International Wildlife Coalition recommended that the United States seek broad consensus in developing the terms of such a definition, since it would be unlikely to be accepted as the product of a single Party.

The United States does not propose to submit such an agenda item. The role and mandate of the CITES Secretariat are clearly defined in the text of the Convention, current resolutions, and the Strategic Plan of the Convention. In particular, Articles XII, XV, and XVI outline general responsibilities of the Secretariat as well as specific duties with regard to the amendment of the CITES Appendices. Resolution Conf. 5.20 establishes additional guidelines to be followed by the Secretariat when making recommendations to the Parties for proposals to amend the Appendices. Beginning at COP9, the Conference of the Parties initiated a review of the Convention's effectiveness. Following the development of an Action Plan at COP10 in June 1997, the Parties concluded that a Strategic Plan would also need to be developed. The Strategic Plan that came out of these discussions is intended to carry the Convention through 2005. The accompanying Action Plan directs specific activities to the Parties, the three Permanent Committees, and the Secretariat. The United States supports the role and mandate of the Secretariat as laid out in these documents. Therefore, the United States does not propose to submit the issue for discussion at COP12.

4. Re-examining the Terms of Reference for the Animals and Plants Committees

We received a comment from the International Wildlife Coalition requesting that the United States submit an agenda item to COP12 to re-examine the Terms of Reference for the CITES Animals and Plants Committees. The International Wildlife Coalition expressed its belief that, due to the fact that the scope and range of participation in meetings of the Animals and Plants Committees have grown in recent years, and that much of the work is now carried on in working groups composed of both Parties and observers, the current Terms of Reference for the makeup and operation of these committees are inadequate. Of particular concern to the International Wildlife Coalition is that it believes that the current structure of the committees can allow for consensus recommendations by working groups to be ignored or disregarded.

The current Terms of Reference for the Animals and Plants Committees were adopted by the Parties at COP11 in Resolution Conf. 11.1. Although they do not address working groups within the Animals and Plants Committees, the United States believes the Terms of Reference provide the appropriate guidance on the scope of the committees and the manner in which they now conduct their work. Working groups within the Animals and Plants Committees are informal groups that allow for detailed discussions and review of particular issues in a way that allows the committees to efficiently address the issues. These working groups report back to the committees with recommendations that can be further discussed and adopted or modified. Therefore, the United States does not propose to submit this issue for discussion at COP12, unless it receives additional information warranting such a submission.

5. Promoting Enhancement of the Understanding of CITES

The International Wood Products Association (IWPA) recommended that the Parties address the need to enhance the understanding of CITES, particularly with regard to the Appendices. The IWPA is concerned that resource agencies, industry, and the U.S. public do not understand the meaning of listings in the CITES Appendices, and encourages the production and distribution of additional outreach materials targeted at these audiences.

Although the United States does not propose to submit this issue as an agenda item to COP12, we will continue to encourage the Secretariat to produce targeted outreach materials. Additionally, we will continue outreach efforts in this country to promote understanding and appropriate application of CITES. The Secretariat recently distributed a CITES brochure with Notification to the Parties No. 2001/076. The brochure is designed as a general awareness-raising tool and is available in the three languages of the Convention (English, French, and Spanish). In this Notification, the Secretariat encourages the submission of ideas for other outreach materials targeted at specific audiences, such as tourists and industry. In addition, one of the goals of the CITES Strategic Vision through 2005 is to promote greater understanding of the Convention. The United States believes that the objectives outlined in the Strategic Vision, as well as outreach efforts currently underway, address the immediate outreach needs for the Convention.

6. Importance of Parties Committing Sufficient Resources to the Enforcement of CITES Listings

We received a comment from the International Wood Products Association (IWPA) requesting that the United States put before the Parties at COP12 the issue of the importance of Parties committing sufficient administrative, financial, and technical resources to the enforcement of CITES listings. The IWPA commented that CITES implementing regulations are not published in a timely or easily accessible manner in some Party countries, and that there is often inconsistency in their enforcement even if these regulations are available. The IWPA further commented that it believes that a primary cause of such problems is insufficient funding in some Party countries for their CITES Management Authorities.

The United States agrees that some CITES Parties are currently unable to commit sufficient resources to the enforcement of CITES listings. However, this issue has already been addressed in the CITES Strategic Vision through 2005, adopted by the Parties at COP11. Goal number 1 of the Strategic Vision is to enhance the ability of each Party to implement CITES. This Goal includes several objectives, including, among other actions: assisting Parties in the development of appropriate domestic legislation and policies to promote the effective enforcement of CITES; strengthening the administrative, management, and scientific capacity of Parties by improving the coordination between Management and Scientific Authorities and other national agencies responsible for wild animals and plants; strengthening the enforcement capacity of the Parties and improving coordination among Management Authorities and other agencies, such as police, Customs, and veterinary/phytosanitary services; and encouraging the proper funding of CITES implementation and enforcement by Parties, and the adoption of national mechanisms that have resource users make a greater contribution to such funding. Since the Strategic Vision already addresses the issue of Parties committing sufficient resources to the enforcement of CITES listings and recommends actions to help resolve this issue, the United States does not propose to submit it for discussion at COP12.

7. Validity of permits

Safari Club International (SCI) proposed that the United States submit a resolution to address the practice of not issuing retrospective permits or re-issuing permits to correct errors that were the fault of the issuing Management Authority. SCI expressed the opinion that this is an unfair practice that penalizes the importer for permit errors that are beyond their control. SCI submitted a draft resolution that recommends that Parties consider a permit valid if it contains all of the information and items required in Articles IV and VI of the Convention. The draft resolution provided by SCI goes on to state that the Management Authority of the importing country should clear any shipments accompanied by an apparently valid permit, even if there are some irregularities in the permit. Once the shipment is cleared, the Management Authority of the importing country would consult with the exporting country to rectify the irregularities. In cases where the permit does not contain all of the required information, but it appears from information provided by the importer or exporter, or otherwise available to the importing authorities, that the error in the permit was made by the issuing authority, the shipment would be released for entry, subject to recall, and the importing authority should open consultations with the issuing authority. In addition, the resolution would allow the import of a shipment without being cleared when appropriate authorities are not present at the time of import, provided that the shipment was not for primarily commercial purposes, the permit was surrendered to the importing authorities within 90 days of import, and the surrendered permit is accompanied by a sworn statement that no appropriate Customs or other official was present at the time of import to receive the permit.

The Parties have established procedures through Resolutions Conf. 9.9, 10.2 (Rev.), 10.6, 10.10 (Rev.), 10.14, 10.15 (Rev.), 11.3, and 11.18, which establish requirements on the retrospective issuance of permits to correct errors in previously issued permits, for information that must be provided on a permit, and how a permit should be handled. The United States does not see a need to establish another resolution to address these issues. In addition, it would not be appropriate to propose a resolution that undermines current procedures. The validity of a permit must be established at the time of import, and the import must be cleared by the appropriate authorities, as established by the Convention, CITES resolutions, and domestic regulations. The purpose of issuing export permits is to ensure that a shipment contains the items that have been authorized for export. The need for the appropriate officials to review the permit and clear the shipment is the basis for trade controls established by CITES. Therefore, the United States does not plan to submit such a resolution at COP12.

8. Making non-detriment findings available upon request

The Whale and Dolphin Conservation Society recommended that the United States submit a resolution with provisions that require Scientific Authorities to make copies of non-detriment findings available on request and enable the Plants Committee and Animals Committee to assess the adequacy of non-detriment findings. Although we believe both ideas have merit, because they would increase the transparency of CITES implementation by the Parties, the United States is not likely to submit such a resolution for consideration at COP12. We believe that the Significant Trade Review process (Resolution Conf. 8.9 (Rev.)) provides an important basis for assessing the adequacy of biological and other information used to make export findings. Furthermore, the CITES Secretariat has embarked on a program, pursuant to Doc. 11.40 (Assistance to Scientific Authorities for Making Non-detriment Findings) adopted at COP11, to provide technical assistance to selected Scientific Authorities to improve their ability to make non-detriment findings through a series of regional training workshops. These workshops are scheduled to run through the first part of 2003. The United States believes it would be premature to pursue a resolution on non-detriment findings prior to completion of this training program.

III. Recommendations for Species Proposals for the United States to Consider Submitting at COP12

We published a notice in the Federal Register on June 12, 2001 (66 FR 31686), in which we requested information and recommendations on potential species amendments for the United States to consider proposing at COP12. In addition to possible species proposals that we have been developing on our own, we received recommendations from the public for possible proposals involving 64 taxa (three families, 14 genera, and 47 individual species). We note, however, that the vast majority of comments involved statements of support or disagreement for given species proposals, with no biological or trade information supporting such statements. We have undertaken initial assessments of the available trade and biological information on all of these taxa. Based on these assessments, we have made provisional determinations of whether or not to proceed with the development of proposals to list or delist species, or transfer them from one Appendix to another. These determinations were made by considering the quality of biological and trade information available on the species; the presence, absence, and effectiveness of other mechanisms that may preclude the need for a CITES listing (e.g., range country actions or other international agreements); and availability of resources. Furthermore, our assignment of a taxon to one of these categories, which reflects the likelihood of our submitting a proposal, included consideration of the following factors, reflecting the U.S. approach for COP12 discussed above:

(1) Is it a native U.S. species that is or may be significantly affected by trade, or if it is a currently listed U.S. species, does the listing accurately reflect the biological and trade status of the species?

(2) Is it a native U.S. species that is not at this time significantly impacted by trade within the United States, but is being significantly impacted elsewhere in its range?

(3) Is it a foreign species, not native to the United States, but which is or may be significantly affected by trade and the United States is a significant component of the trade (i.e., as an importing country)?

(4) Is it a species for which the United States is neither a range country nor a country significantly involved in trade, but for which trade is a serious threat to the continued existence of the species, other mechanisms are lacking or ineffective for bringing trade under control, and action is urgently needed?

Below, we have provided the actions that the United States is considering taking for COP12 with regard to all of the species proposals recommended by the public, as well as possible species proposals we have been developing on our own.

A. What Species Proposals is the United States Likely to Submit for Consideration at COP12?

The United States is likely to develop and submit proposals for the following taxa. We welcome your comments, especially any biological or trade information on these species. For each species, more detailed information is on file in the Division of Scientific Authority than is presented in the summary below. For some of the species below, particularly those not native to the United States, additional consultations with range countries and knowledgeable experts is proceeding (see discussion), and a final decision is pending the outcome of those consultations.

Plants

1. Cacti (Sclerocactus nyensis and Sclerocactus spinosior blainei [=S. blainei])—Proposal for transfer from Appendix II to Appendix I

Sclerocactus nyensis is a very rare U.S. endemic species of cactus, occurring only in two counties in the State of Nevada. Sclerocactus spinosior blainei is another U.S. endemic species of cactus that is known from only three localities in southern Nevada and Utah. Both species were listed in Appendix II on July 1, 1975. The Management Authority of Switzerland has recommended that we consider listing these species in Appendix I. Threats to the species include hobby collecting, agricultural and industrial development, off-road vehicle use, and highway maintenance. The Nevada Natural Heritage Program protects location information for both species because they are considered especially vulnerable to poaching, vandalism, harassment, and hobby collecting. Both cacti are given special status in the State of Nevada and this status is also recognized by the U.S. Bureau of Land Management. Seeds of S. nyensis and S. spinosior blainei are available on the Internet from Websites located in the Netherlands, Germany, Malta, Austria, and the Czech Republic, indicating that international demand for the species exists and international trade occurs. For these reasons, we currently plan to propose these two species for transfer to CITES Appendix I.

2. Santa Barbara Island dudleya (Dudleya traskiae)—Proposal for transfer from Appendix I to Appendix II

Dudleya traskiae is confined to a small island off the coast of California, where there are fewer than 100 individuals in fewer than a dozen populations. This species was listed in CITES Appendix I in 1983. It was proposed for downlisting to Appendix II by Switzerland, as the Depositary Government for CITES, at COP11 in April 2000. The proposal was withdrawn as the result of discussions in which the United States agreed to undertake further review of the species prior to COP12. Dudleya traskiae has been listed as Endangered under the U.S. Endangered Species Act since 1978. It is also listed as Endangered by the World Conservation Union (IUCN), as well as Endangered by the State of California (since 1979). The primary threats to D. traskiae are fire and competition from exotic vegetation. Though it is valued as an ornamental, collection of individuals from the wild does not appear to be a threat at the present time. International demand for this species is minimal or non-existent, though there is trade in specimens cultivated both within and outside the United States. For these reasons, the United States is considering submitting a proposal to transfer D. traskiae from CITES Appendix I to II.

3. Maguire's Lewisia (Lewisia maguirei)—Proposal for Removal From Appendix II

Lewisia maguirei is known only from eight sites, all within a very restricted area of Nye County, Nevada. This species was listed in CITES Appendix II in 1983. It was proposed for delisting by Switzerland, as the Depositary Government for CITES, at COP11. The proposal was withdrawn as the result of discussions in which the United States agreed to undertake further review of the species prior to COP12. Lewisia maguirei is listed as Endangered by the IUCN. It is protected from most threats, except mineral exploration and development, by its high-elevation habitat. Though this species has ornamental value, international trade is not a significant threat since few applications to export this species have been received, and no trade has been recorded since it was listed. For these reasons, the United States is considering submitting a proposal to remove L. maguirei from CITES Appendix II.

Reptiles and Amphibians

4. Orange-Throated Whiptail Lizard (Cnemidophorus hyperythrus)—Proposal for Removal From Appendix II

The orange-throated whiptail lizard was listed in CITES Appendix II when CITES went into effect on July 1, 1975. The Western Association of Fish and Wildlife Agencies has requested that the species be removed from the Appendices. The orange-throated whiptail lizard is limited to southwestern California in the United States and Baja California in Mexico, including eight islands in the Gulf of California and two islands in the Pacific Ocean off the coast of Baja California, Mexico. Information on the population status of the orange-throated whiptail lizard is limited. In San Diego, California, the status of the species is considered “seriously depleted.” Population surveys in Mexico have been conducted only on three islands in the Gulf of California, where the species appears to be abundant and populations remain stable. The primary threat to C. hyperythrus is loss of suitable contiguous habitat to urban, commercial, and agricultural development. This threat of habitat loss could be further exacerbated by commercial trade. However, CITES trade data from the World Conservation Monitoring Centre (WCMC) suggest that legal commercial trade in the species in recent years has been limited, involving primarily scientific specimens. Our Division of Law Enforcement does not have any specific information that indicates there is illegal trade in this species.

In the State of California, C. hyperythrus is listed as “protected,” and permits to collect and/or possess the species are granted by the California Department of Fish and Game only for scientific purposes. Additionally, California prohibits the sale of all its native species and requires permits for the sale of native reptiles by biological supply houses to scientific and educational institutions. In Mexico, the species is categorized as “threatened” and “rare,” and commercial export of wild-caught specimens of native species is prohibited. Therefore, since trade does not appear to be a threat to the species and the species is protected by domestic legislation in both range countries, the United States is considering submitting a proposal to remove C. hyperythrus from CITES Appendix II, an action supported by the Mexican Scientific Authority.

B. On what species proposals is the United States still undecided, pending additional information and consultations?

The United States is still undecided on whether to develop COP12 proposals for the following taxa. In some cases, we have not completed our consultation with relevant range countries. In other cases, meetings of experts are expected to occur in the immediate future and generate important recommendations, trade analyses, or biological information on the taxon in question. See the discussions below for more detail. For each species, more detailed information is available in the Division of Scientific Authority than is presented in the summary below. We welcome your comments, and especially any biological and trade information on these species. We delineate what additional information we are seeking or have sought to assist us in making our decision.

Plants

1. Ironwood (Olneya tesota)—Proposal for inclusion in Appendix II

Ironwood is a long-lived tree and keystone species of the Sonoran Desert in southwestern Arizona, southeastern California, and northwestern Mexico. It often grows in mixed stands with mesquite (Prosopsis spp.). Ironwood has not previously been proposed for CITES listing. Representatives of our Law Enforcement Division and SEMARNAP/PROFEPA (Mexico's wildlife law enforcement agency) have recommended that the species be considered for inclusion in CITES Appendix II. The primary threats to O. tesota are charcoal making, wood cutting for commercial craft production, land conversion, and altered burning regimes and competition from exotic buffelgrass. U.S. tourists are the primary market for ironwood carvings, which have been produced in Mexico at a rate that has rapidly depleted the local supply of ironwood. In addition, ironwood is harvested with mesquite to meet American consumer demands for mesquite charcoal because including it in bags of mesquite charcoal makes a heavier product per volume and woodcutters are paid by weight.

Spot checks of mesquite charcoal bags from Sonora in the early 1990s demonstrated that ironwood constituted from 10 to 40 percent of the export volume at that time. Ironwood is extremely slow to recover after harvest. Populations are declining rapidly, especially in Mexico. Wood cutting for charcoal production, fuelwood, and the carving industry is estimated to have caused an average of 17 percent reduction in ironwood's dominance in the vegetation of studied areas. Ironwood has been given special protected status in Mexico, where permits to cut it are required, but enforcement is difficult. It is also of increasing conservation concern in the United States, where habitat destruction is the main threat, but illegal collection has been documented from Organ Pipe Cactus National Monument and other protected areas. For these reasons, the United States is considering submitting a proposal to list ironwood in Appendix II. We are consulting with Mexico regarding this possibility.

2. Lignum vitae (Guaiacum coulteri, Guaiacum unijugum, and Guaiacum angustifolium)—Proposal for inclusion in Appendix II

Guaiacum is a genus of neotropical evergreen trees distributed throughout Mesoamerica and the Caribbean. There is great taxonomic confusion regarding this genus, but we consider there to be only five true species of Guaiacum. In addition to G. sanctum L. and G. officinale L., which are already listed in CITES Appendix II, the other recognized species are G. coulteri A. Gray, G. unijugum Brandegee, and G. angustifolium Engelm. Guaiacum coulteri and G. unijugum are endemic to Mexico; the former is distributed along the Pacific slope from Oaxaca to Sonora, and the latter is restricted to the eastern shore of the Cape Region in Baja California. Guaiacum angustifolium occurs in northern Mexico and southern Texas. Other taxa that range into Central America are either synonyms of G. sanctum or hybrids of G. sanctum and G. coulteri. Guaiacum coulteri, G. unijugum, and G. angustifolium are not currently listed under CITES and have not previously been proposed for CITES listing. After conducting an extensive review of the status of the species, students from the University of Maryland Sustainable Development and Conservation Biology Program have recommended that these species be considered for Appendix II. The primary threat to the genus Guaiacum is habitat loss and over-exploitation. A small but stable international market for Guaiacum in Asia, Europe, and North America drives exports from several range countries, including Mexico.

Difficulty in differentiating among Guaiacum species in trade justifies listing the entire genus in Appendix II. In particular, there is enough confusion over the identity of G. coulteri that significant trade in this species could be occurring under the name G. sanctum. Guaiacum coulteri also qualifies for Appendix II listing in its own right. Several experts have expressed concern over its status, since it is likely to be declining in Mexico. Habitat degradation is especially problematic for this species, and unregulated trade could exacerbate its decline. For these reasons, the United States is considering whether to submit a proposal to list the remainder of the genus Guaiacum in Appendix II. We are consulting with Mexico and other range countries with regard to this possibility.

3. Orchids—Proposal to annotate the listing of Orchidaceae in Appendix II to exempt certain artificially propagated hybrids from CITES permitting requirements

The orchid family is among the largest families of flowering plants, with over 20,000 species in about 900 genera. Orchids occur on every continent except Antarctica, with a concentration of distribution in the tropics, and they occur in a wide variety of habitats. Orchids are also among the most widely recognized and popular horticultural plants, with a growing international demand in recent years. Annual wholesale figures for orchids in the United States alone have now topped 100 million dollars. Millions of plants are documented in trade, based on CITES trade data, and most of these are artificially propagated. At the ninth meeting of the CITES Plants Committee in June 1999, the Plants Committee agreed to review the listing of Orchidaceae as part of the ongoing Review of the Appendices. Using preliminary data assembled by the CITES Secretariat at the tenth meeting of the Plants Committee in December 2000, a working group (including the United States) established a framework for the review, which entailed a breakdown of the trade and assigning different genera to different levels and purposes of trade. Data were provided to working group members by the CITES Secretariat in advance of the eleventh meeting of the Plants Committee in September 2001. At the eleventh meeting of the Plants Committee, the consensus of the working group was that the orchid family presented too many problems of similarity of appearance and uncertainty about status of the species in the wild. These factors precluded the possibility of a timely review, which ultimately might not lead to the delisting of any species. As an alternative, participants in the meeting agreed to study the possibility of exempting certain high-volume artificially propagated hybrids of six select genera: Cattleya, Cymbidium, Dendrobium, Oncidium, Phalaenopsis, and Vanda. It was decided that such a proposal could be considered only if clear requirements could be established for trading these hybrids in a manner that would preclude the exemption from being used as a means to circumvent trade control in other orchids, especially wild-collected species. In addition, it was agreed that such a proposal must include identification materials that would establish easily recognizable characteristics of plants that would qualify for this exemption.

Our Division of Scientific Authority and the American Orchid Society are cooperating in the development of a draft proposal and identification materials for presentation to the Plants Committee at its twelfth meeting in May 2002. Depending on support from range countries of these orchid taxa (i.e., the six genera under consideration) as well as the ability of the Plants Committee to develop a final proposal and identification materials that will not result in non-exempt taxa being traded without permits, the United States may co-sponsor a proposal to exempt selected high-volume artificially propagated orchid hybrids from the listing of orchids in Appendix II.

4. Yew (Taxus spp.)—Proposal for inclusion in Appendix II

Bristol-Myers Squibb Company has suggested that the United States propose various yew species (Taxus yunnanensis, T. chinensis, T. celebica, T. cuspidata, and T. fuana) for listing in CITES Appendix II. Yews are slow-growing, long-lived conifers found in temperate forest regions of North America, Europe, and Asia. Yews range in size from small forest trees to shrubs and are often found growing in shaded conditions. The bark and needles of yew contain the chemical compound taxol, which is used in the treatment of various cancers. International trade in yew for taxol extraction is significant throughout the range of the genus, especially in the Eastern Hemisphere. As a result, the Himalayan yew T. wallichiana (synonym T. baccata wallichiana), native to southeast Asia, was listed in Appendix II of CITES on February 16, 1995. However, prior to listing, both the CITES Secretariat and the IUCN Species Survival Commission expressed concerns regarding taxonomic difficulties within the genus and the ability of Parties to enforce CITES provisions for the species because all yews look very similar in appearance. Historically, the taxonomy of the genus has been based on leaf characteristics and geographical distribution of distinct taxa. Worldwide, 6 to 20 species of Taxus are recognized, depending on the reference. The United States submitted two documents at the tenth and eleventh meetings of the Plants Committee on the current status of the nomenclature of the genus as it relates to conservation of the taxa in the wild.

At the eleventh meeting of the Plants Committee, the Nomenclature Committee recommended that the World Checklist and Bibliography of Conifers by Aljos Farjon (1998), and its updates, be used by the CITES Parties as the standard reference for Taxus to reduce the confusion regarding the nomenclature of the genus. Furthermore, the Plants Committee recommended that the present listing of T. wallichiana be reviewed to provide adequate protection for any species within the genus that may be in trade and require regulation. Information from various sources indicates that the trade in yew parts and derivatives, other than those from T. wallichiana, for the pharmaceutical industry has increased substantially since the listing of the one species in 1995. Large volumes of T. yunnanensis are reportedly exported from Myanmar. Several pharmaceutical companies in the United States are importing paclitaxel derived from T. yunnanensis from China. The United States will be pursuing these and other pertinent issues concerning the genus Taxus at the twelfth meeting of the Plants Committee in May 2002. In the meantime, the United States will consult with Canada, China, and other range countries about supporting or co-sponsoring an Appendix II listing proposal of the genus Taxus at COP12.

Invertebrates

5. Sea cucumbers (26 Species in the Families Holothuridae and Stichopodidae)—Proposal for Inclusion in Appendix II

Sea cucumbers are slow-moving animals that live on the seafloor in sand, mud, and reef environments. They are distributed worldwide from intertidal zones to deep-sea environments. The United States has several native species of sea cucumbers, with active fisheries in several States. Sea cucumbers have not previously been proposed for CITES listing. They are important components of the food chain in coral reefs and associated ecosystems at various trophic levels, and they play an important role as deposit feeders and suspension feeders. Rapid declines in sea cucumber populations may have serious consequences for the survival of other species that are part of the same complex food web because the eggs, larvae, and juveniles constitute an important food source for other marine species, including crustaceans, fish, and mollusks. Sea cucumbers ingest large amounts of sediment, turning over the top layers of sediment in lagoons, reefs, and other habitats, and allowing oxygenation of sediment layers, much like earthworms do on land. This process prevents the build-up of decaying organic matter and may help control populations of pest and pathogenic organisms, including certain bacteria and cyanobacterial mats. Over-exploitation has caused a hardening of the sea floor, eliminating habitat for other benthic and infaunal organisms. Sea cucumbers have been harvested commercially for at least 1,000 years, but the demand in Asian markets worldwide has led to a dramatic increase in international trade for food beginning in the late 1980s and early 1990s, reaching a global annual volume of about 12,000 metric tons of dried sea cucumber (120,000 tons live). Since the mid-1990s, additional markets emerged for natural health products research and home aquaria.

Sea cucumbers are sedentary animals that are especially susceptible to over-exploitation because they are large, easily collected, and do not require sophisticated fishing techniques. Reduction of population densities by fishing may render remaining individuals incapable of successful reproduction, due to the greater distance between males and females. The fishery for the two most valuable species (Holothuria nobilis and H. scabra) has collapsed in a number of locations due to over-fishing, and significant declines have been noted in many South Pacific and Southeast Asian locations. Given the past and continuing levels of exploitation to meet international demand, and documented declines or extirpations in some areas, we believe that Holothuridae and Stichopodidae meet the criteria for inclusion in Appendix II. We believe that a family-level listing for the most heavily traded taxa (26 species in the two families mentioned) would be most appropriate given the indiscriminate fishery and similarity between dried specimens in trade. The United States seeks additional information (particularly on abundance, identification techniques, trade volumes, and other range country interest in CITES listing) while considering an Appendix-II listing proposal for sea cucumbers.

Fish

6. Humphead wrasse (Cheilinus undulatus)—Proposal for Inclusion in Either Appendix I or Appendix II

The humphead or Napolean wrasse is found in coral reef and channel slope habitats throughout much of the Red Sea, the Indo-Pacific, and Micronesia. It has not previously been proposed for CITES listing. Humphead wrasse is the largest member of the family Labridae and is particularly vulnerable to over-exploitation due to its life history, including slow growth, late maturity, long life, complex social structure, and sex reversal. Despite its widespread distribution, the species is uncommon throughout its range and is subject to over-fishing. Although humphead wrasse are generally found in small social units, they have historically formed large aggregations during peak reproductive periods. Targeting of wrasse and grouper spawning aggregations has led to the elimination of breeding populations from some locations after two to four years of intensive fishing. Furthermore, harvest of immature individuals results in poor recruitment to the spawning population and skewed sex ratios, since many species begin life as females and metamorphose into males.

The primary threat to the species is over-harvest for the live reef food fish trade (LRFFT), which is driven largely by luxury food markets in Hong Kong, mainland China, and other Asian countries. Because of the high international demand and value of the LRFFT (estimated at 32,000 metric tons and 500 million dollars for Hong Kong wholesale markets in 1997), the LRFFT has emerged as the greatest immediate threat to Indo-Pacific grouper and wrasse populations. The trade involves more than ten popular taxa, with rare species such as humphead wrasse commanding the highest prices (up to 174 dollars per kilogram or 87 dollars per pound). The LRFFT has rapidly expanded throughout Southeast Asia, the South Pacific, and the Indian Ocean due to an increasing demand and rapid elimination of the humphead wrasse and other large, economically desirable fish on heavily exploited reefs.

Researchers remain concerned over the status of the humphead wrasse because of its importance as a luxury food item and a high value that is predicted to increase with increasing rarity, which will encourage continued exploitation as stocks continue to decline. Also, because of the difficulty in capturing humphead wrasse and groupers alive, the LRFFT has been a principal driver in the spread of highly destructive cyanide fishing throughout the Indo-Pacific. Cyanide use is illegal in most countries and is known to cause considerable habitat damage and mortality to small, non-target reef fish and invertebrates. Due to documented declines, humphead wrasse are banned from export in many areas of the Indo-Pacific (e.g., the Maldives, certain parts of the Philippines, and Indonesia for certain size classes). Nonetheless, 1997 Hong Kong data showed that the species is still imported from these locations. The humphead wrasse is listed as vulnerable in the 1996 IUCN Red List because of severe declines in sizes and numbers in Southeast Asia (attributed to the LRFFT). There is no regional management program currently in place for the LRFFT. Continued illegal and unsustainable trade, lack of coordinated management, a vulnerable life history, and the prominence of international markets suggest that humphead wrasse qualify for listing in Appendix II or perhaps Appendix I of CITES, and the United States is interested in pursuing a possible listing proposal with involved range countries.

While we are not considering other species of groupers and wrasses for listing at this time, the United States is also interested in gathering more information on other high value species in the LRFFT, such as high-finned grouper (Cromileptes altivelus) and giant grouper (Epinephelus lanceolatus). All of these species are distinct in appearance and almost exclusively traded alive in international markets, and thus the United States does not foresee complications or confusions with look-alike fishery products from other grouper species that are traded in processed form.

7. Seahorses, Pipefishes, Pipehorses, and Seadragons (Family Syngnathidae)—Proposal for Inclusion in Appendix II

There are approximately 215 species of syngnathids in about 35 genera, including 35 species of seahorses (Hippocampus spp.). Species are found in freshwater, brackish, and marine environments. Pipefishes can be found to depths of over 400 meters, and the two species of seadragons are endemic to Australian waters. Seahorses live among sea grasses, mangroves, and coral reefs throughout the tropics and subtropics, as well as pilings, grass beds, and other habitats in tropical and temperate areas between 52 degrees north and 45 degrees south latitude. Most species of seahorses occur in the tropical western Atlantic or Indo-Pacific regions. Life-history strategies of seahorses and other syngnathids make populations susceptible to over-exploitation. These taxa are characterized by sparse distributions, low mobility, small home ranges, low natural adult mortality, low fecundity, long parental care, and varying degrees of mate fidelity.

Life-history characteristics, heavy fishing pressure to supply international demand, by-catch in trawl fisheries, degradation and loss of habitat, and pollution represent the primary threats to syngnathids. A rapidly growing trade in pipehorses and seahorses (primarily for traditional Chinese medicine and its derivatives, with a smaller but significant trade to supply aquarium pets, souvenirs, and curios) is resulting in over-exploitation of wild populations. Seahorses are caught by subsistence fishers by hand, scoop net, or small seine. They also occur as by-catch in shrimp trawlers and other forms of net fishing. It is estimated that at least 20 million seahorses are captured annually from the wild, with the bulk originating in 20 countries. The largest importing jurisdictions are mainland China, Hong Kong, and Taiwan, with an estimated annual consumption of 45 tons (16 million seahorses) in Asia. Seahorses and pipehorses are sold as whole dried animals for preparation in tonics. There has been a recent increase in numbers of seahorses, pipehorses, and pipefish used in prepared medicines (e.g., pills) in Asia, possibly in response to decreases in size of individuals obtained in fisheries catch. The United States intends to consult with range countries and relevant organizations (e.g., Project Seahorse, an international research and trade forum) on the merits of an Appendix-II listing proposal. This will be greatly facilitated by a CITES-sponsored workshop on syngnathid conservation, tentatively scheduled for Spring 2002.

Reptiles and Amphibians

8. Asian Freshwater Turtles and Tortoises—Proposals for Inclusion in Appendices I and II

A large number of Asian freshwater turtles and tortoises are threatened by over-exploitation for the food and pet trades. We previously evaluated some of these species for COP11 (Southeast Asian softshell turtles [Trionychidae], Malaysian giant turtle [Orlitia borneensis], and Burmese roofed turtle [Kachuga trivittata]), but found the data on population status and exploitation to be insufficient to support a CITES listing proposal for any of the taxa at that time. Since COP11, there has been considerable international focus on the status of and trade in Asian freshwater turtles and tortoises, culminating in the August 2000 publication of Asian Turtle Trade: Proceedings of a Workshop on Conservation and Trade of Freshwater Turtles and Tortoises in Asia. These proceedings indicate that a number of Asian turtle and tortoise species qualify for inclusion in Appendix II or transfer from Appendix II to I. We noted a number of these taxa in our initial June 12, 2001, Federal Register notice on COP12. In response to that notice, a number of commenters supported listing or uplisting various taxa, while one commenter opposed listing individual taxa but supported listing all Asian turtles in Appendix II. One organization provided considerable supporting information for listings of Kachuga spp., Chitra spp., Pelochelys spp., and Amyda cartilagina, and uplisting of Cuora spp. We are aware of considerable interest on the part of other CITES Parties, including range countries, to submit listing proposals for Asian turtle taxa, including Heosemys spp, Mauremys spp., and Orilitia borneensis. We also believe that additional taxa, including Carettochelys insculpta and Platysternon megacephalum, qualify for listing whereas certain other taxa qualify for uplisting.

A CITES-sponsored Workshop on Freshwater Turtles and Tortoises was held in China in March 2002. This workshop brought together range and consuming country representatives and international turtle conservationists to address the critical issues of turtle conservation, focusing on Asian freshwater turtles and tortoises. Among the issues discussed were CITES listing needs for Asian turtles. The United States participated in that workshop and will help determine which taxa are the highest priorities for CITES listing, and which country or countries might sponsor proposals for such listings. We will focus on garnering range country support and sponsorship for the highest-priority taxa, and will offer our assistance in the preparation of proposals. The United States may wish to co-sponsor certain of these proposals, or submit them on its own if a suitable range country sponsor does not come forward. For this reason, the United States remains undecided on submitting proposals for Asian freshwater turtle and tortoise taxa for consideration at COP12, pending analysis of the outcome of the workshop and further consultation with other CITES Parties.

9. North American Softshell Turtles (Apalone spp.)—Proposal for Inclusion in Appendix II

There are three species of North American softshell turtles. Some authorities place these species in the genus Trionyx, whereas others place them in the genus Apalone. North American softshell turtles are not currently listed under CITES and have not previously been proposed for CITES listing. The three Apalone species, Apalone spinifera, A. mutica, and A. ferox, occur in the eastern, southeastern, and midwestern United States, respectively. Apalone mutica ranges into northern Mexico and A. spinifera ranges into southern Canada. These turtles are threatened by habitat loss and modification, and by harvest for the pet trade and human consumption. Records show that, since the early 1990s, U.S. exports of Apalone spp. have been generally increasing with some fluctuation between years. Since 1993, at least 10,000 softshell turtles per year were exported from the United States. For several years the recorded number exported exceeded 30,000 turtles. From our records, we are unable to determine if the origin of these turtles is wild or captive, so the impact of the trade on wild populations is difficult to assess.

In addition, few populations of Apalone have been well studied and the effects of harvest on populations is poorly documented. The U.S. Geological Survey is currently assessing the status of North American turtle species, including the softshells. Also, the CITES Secretariat conducted a Workshop on Freshwater Turtles and Tortoises in March 2002 (see “Asian freshwater turtles and tortoises” above). Since North American softshell turtles are in the Family Trionychinae, which also includes several Asian species of softshell turtles, we expect that the outcome of the workshop may have relevance to conservation of North American softshell turtles. Therefore, the United States intends to analyze the results of the workshop to determine whether or not it will propose these species for listing in CITES Appendix II.

10. Spiny-tailed Lizards (Uromastyx spp.)—Proposal for Transfer From Appendix II to Appendix I

Uromastyx lizards inhabit the arid regions of northwest India, southwestern Asia, the Arabian Peninsula, and the Sahara of northern Africa. CITES currently recognizes 14 species. Uromastyx aegyptia (including U. microlepis) was listed in Appendix III by Tunisia on April 22, 1976. All species in the genus Uromastyx were subsequently listed in Appendix II on February 4, 1977. No other proposals have been submitted since. At its fifteenth meeting in July 1999, the CITES Animals Committee reviewed the status of U. aegyptia (Egyptian spiny-tailed lizard) as part of Phase IV of the Significant Trade Review process, pursuant to Resolution Conf. 8.9 (Rev.) (Trade in specimens of Appendix-II species taken from the wild.). Based on the information available at the time, the species was categorized as a “species with insufficient information” (category d (ii) of Decision 10.79 d); now category 2 of Decision 11.106 g)). Because most of the trade in the species originated in Egypt, the Animals Committee issued primary recommendations to that country, through the CITES Secretariat, requesting additional information about Egypt's policy on the export of the species, number of specimens exported between 1997 and 1999, and scientific basis for permitting export of the species. Because Egypt failed to respond to the Animals Committee within the 90-day deadline established by Resolution Conf. 8.9 (Rev.), the CITES Secretariat recommended to the CITES Standing Committee at its forty-fifth meeting (June 2001) that all Parties suspend imports of specimens of U. aegyptia from Egypt until the Animals Committee recommendations are implemented. However, during the meeting, Egypt informed the Standing Committee that it was conducting a survey of the species and that export of the species was prohibited. Consequently, the Standing Committee agreed not to take further actions. However, the Standing Committee agreed to re-impose the Animals Committee primary recommendations if trade in the species is re-opened.

The primary threats to Uromastyx lizards are over-collection and limited distribution of individual species. Most range countries have laws prohibiting domestic and international trade in Uromastyx spp. However, these laws are not always complied with. Spiny-tailed lizards are traded as pets (live animals) and souvenirs (stuffed animals). In the case of specimens traded as pets, many die during import or soon after arrival. Some species are smuggled out of their country of origin and then imported into the United States and Europe through a third country by claiming the animals as captive born. Success in breeding of spiny-tailed lizards in captivity has been limited. There are currently seven species of Uromastyx kept in captivity: U. maliensis, U. ocellatus, U. acanthinurus, U. aegyptius, U. benti, U. philbyi, and U. hardwicki. The vast majority of the young spiny-tails available in the pet trade are wild-caught. According to WCMC, over 70,000 live specimens of Uromastyx spp. were traded between 1990 and 2000, mostly U. acanthinurus and U. maliensis (considered by some as a subspecies of U. acanthinurus). The number of U. acanthinurus and U. maliensis exported increased from 50 in 1990 to almost 20,850 in 1998. However, information on population trends for wild populations is lacking. The United States intends to consult with range countries of Uromastyx species to gather additional status information and to ascertain their interest in sponsoring or co-sponsoring an Appendix-I uplisting proposal.

Mammals

11. Black Sea Bottlenose Dolphin (Tursiops truncatus ponticus)—Proposal for Transfer From Appendix II to Appendix I

Bottlenose dolphins (Tursiops truncatus) were included in Appendix II on June 28, 1979, and are distributed worldwide in temperate and tropical waters. The subspecies; Tursiops truncatus ponticus is endemic to the Black Sea, isolated from other populations of bottlenose dolphins in the Mediterranean and other waters. Black Sea bottlenose dolphins look almost identical to those from other regions, and their genetic distinctness is unknown. At COP11, the United States withdrew a proposal to transfer the subspecies to Appendix I when Georgia (co-sponsor and range country) could not attend. It is believed that overall abundance of dolphins in the Black Sea has declined greatly due to over-exploitation into the 1980s for human consumption and industrial products. A large purse-seine fishery conducted by the former Soviet Union, Bulgaria, and Romania collapsed in the 1960s due to over-harvest, and large takes by rifle continued by Turkey until a ban in 1983. The proportions of the three endemic small cetaceans (bottlenose dolphin, harbor porpoise Phocoena phocoena relicta, and long-beaked common dolphin Delphinus delphis ponticus) in these catches and their relative degrees of depletion are not known with confidence.

The size of the present population of bottlenose dolphins is unknown, and no estimates exist of sustainable levels of take. The habitat is thought to be highly degraded and declining in quality due to contamination by sewage and industrial effluents, algal blooms, decrease in prey species due to over-fishing, and by-catch in fisheries. There has been a substantial international commercial trade in bottlenose dolphins from the Black Sea. Exporters in Russia and Georgia have been able to obtain CITES permits for export of bottlenose dolphins to several countries, including Cyprus, Malta, Turkey, Israel, Argentina, and Hungary, by stating that the purpose was to establish breeding colonies for conservation and research. In all cases, the actual purpose was commercial and the majority of the animals died during or shortly after transport. There were also some cases of illegal imports. Only one captive birth (in Israel) has occurred, and we are not aware of any scientific research that has resulted from the trade. As signatories to the Bern Convention, range countries Bulgaria, Romania, Turkey, and Ukraine have all banned possession and internal trade in T. truncatus. In addition, the Parties to the Bern Convention adopted a resolution in November 2001 urging that this subspecies be transferred to Appendix I. The Agreement on the Conservation of Cetaceans of the Black Sea, Mediterranean Sea, and Contiguous Atlantic Area (ACCOBAMS) adopted a similar resolution at a meeting in February 2002. At COP11, Parties recognized the potentially severe threats to Black Sea bottlenose dolphin populations and adopted Decisions 11.91 and 11.139, which called for countries trading in T. truncatus ponticus to provide information on trade volumes, mortalities, and international management efforts, and to supply tissue samples for expert genetic analysis. The United States has agreed to be a repository for these tissue samples, and geneticists with the National Marine Fisheries Service are currently working to obtain Black Sea bottlenose dolphin specimens from range countries. Genetic comparisons between these samples and those from other bottlenose dolphin populations are critical to resolving the distinctness of the Black Sea sub-population. Listing subspecies in any CITES Appendix is discouraged by Resolution Conf. 9.24 (Criteria for amendment of Appendices I and II), unless the taxon in question is highly distinctive and use of the subspecies name would not lead to enforcement problems.

The United States will strive to obtain samples and complete genetic analysis on Black Sea bottlenose dolphins to develop a defensible listing proposal. We will also continue our consultations with range countries, as well as regional management authorities, to obtain the latest information on population status and to identify sponsors or co-sponsors for a potential uplisting proposal.

12. Bobcat (Lynx rufus)—Proposal for Removal From Appendix II

The bobcat (Lynx rufus) is found in southern Canada, the contiguous United States, and northern Mexico. The Wildlife Division of the Texas Parks and Wildlife Department (TPWD) has recommended that the United States submit a proposal at COP12 to remove all bobcat populations from the CITES Appendices. All felids not listed in Appendix I, including the bobcat, were listed in Appendix II on April 2, 1977. At COP4 in April 1983, the United States and Canada co-sponsored proposals to remove from Appendix II several Canadian and U.S. populations of North American mammals, including the bobcat. The United States and Canada argued that, at the time of the original listing of the bobcat, there was no indication as to whether the species was intended to be listed because of a need to control trade and prevent the threat of extinction (CITES Article II.2.a) or similarity of appearance to species threatened by trade (CITES Article II.2.b). Because the bobcat did not appear to be threatened by trade and the States and Provinces managed its harvest, the United States and Canada believed that its removal from CITES controls would not threaten the continued survival of the species. However, at COP4, the CITES Secretariat and several Parties, particularly from Western Europe, opposed the bobcat delisting proposal on the grounds that the species was listed because of similarity of appearance. They feared that adoption of the proposal would create enforcement problems. Subsequently, the United States and Canada withdrew the proposal after both Parties agreed that the listing of the bobcat in Appendix II was warranted because of similarity of appearance to other species of felids.

In its letter to us, the TPWD included a draft delisting proposal containing updated information on the population and trade status of the bobcat in the United States, as well as a general description of the regulatory mechanisms adopted by U.S. States and Canadian Provinces to manage harvest of the species. However, the draft proposal contained no information on the status of the species or regulatory mechanisms in Mexico. The United States will consult with Canada and Mexico for additional information on the status of the species, as well as to determine if these two range countries would support or co-sponsor a proposal to remove the bobcat from Appendix II. We will also consult with our Division of Law Enforcement and enforcement authorities of relevant importing countries about enforcement problems that might arise during the inspection of wildlife shipments involving other felid species to better assess whether the bobcat still meets criterion B of Annex 2b (Criteria for the inclusion of species in Appendix II in accordance with Article II, paragraph 2 (b)) and should remain listed because of similarity of appearance.

C. What Species Proposals is the United States not Planning to Submit for Consideration at COP12, Unless it Receives Significant Additional Information?

The United States does not intend to submit its own proposals for the following taxa unless we receive significant additional information indicating that a proposal is warranted. In some cases, we are aware that range countries with greater involvement in the taxon's trade or conservation are preparing listing proposals for COP12. The United States could co-sponsor or actively support such proposals. In other cases, available information does not support a defensible listing proposal. We welcome your comments, especially any biological and trade information on these species that may cause us to reconsider the submission of a proposal. For each species, more detailed information is available in the Division of Scientific Authority than is presented in the summary below. For each taxon, we describe external factors that diminish the need for a U.S. listing proposal or critical information gaps that prohibit us from developing a proposal.

Fungi

1. American Matsutake or Pine Mushroom (Tricholoma magnivelare)—Proposal for Inclusion in Appendix II

Tricholoma magnivelare is a widespread mushroom found in boreal and temperate forests in North America, but is most abundant in Washington, Oregon, and northern California. The species has not previously been proposed for CITES listing. The fruiting of American matsutake can vary greatly in occurrence, abundance, and distribution from year to year. In the United States, harvesting is allowed through a permit system on lands managed by State and Federal agencies. Although these agencies issue collection permits, they do not typically monitor the quantity of matsutake harvested from their lands. Illegal harvest does occur on National Park Service lands and other Federal and State lands where harvest is prohibited. Nearly all harvested American matsutake is exported at a premium price to Asia as a substitute for the rare Japanese matsutake (T. matsutake). Following a review of the available biological and ecological information on the species, we have concluded that the species is widespread and abundant, and trade does not appear to be a threat to the species. Therefore, the United States does not intend to submit a proposal to list American matsutake in CITES Appendix II.

Lichen

2. Usnea Lichen (Usnea spp.)—Proposal for Inclusion in Appendix II

Lichens rank among the least well-known forms of life, and their taxonomic classification is undergoing changes. Many species of lichens were historically circumboreal in their distribution. More recently, lichens have been affected by habitat loss, air pollution, and commercial harvesting. Many species of usnea lichens (Usnea spp.) are used medicinally as an antibacterial, and as decoratives in the floral greens industry. The most commonly wild-harvested usnea lichens in the United States are Usnea barbata, U. florida, U. hirta, and U. longissima. Although U. longissima appears to have an extensive range and frequent occurrence, it is commercially collected from the wild and its potential habitat is clearly continually declining. Usnea longissima, in particular, is now listed on Red Lists in many parts of Europe and extirpated from much of its range in Scandinavian countries. Furthermore, U. longissima has a rank of G3 (at risk) in the Global Heritage Status ranking system, and a rank of S2.1 and S2 (imperiled) in California and Washington, respectively. We have anecdotal evidence that these species are collected from the wild at levels potentially exceeding sustainable rates given their long regeneration time, but we lack sufficient quantitative information to proceed with a listing proposal at this time. We will continue to compile information and consult with range countries and experts on the conservation and international trade status of Usnea spp. to determine whether a listing proposal may be appropriate for a future meeting of the Conference of the Parties to CITES.

Plants

3. Mosses—Proposal for Inclusion in Appendix II

Our June 12, 2001, Federal Register notice listed ten species of mosses that are known to be wild collected: hanging moss (Antitrichia curtipendula), log mosses (Eurhynchium oreganum, Thuidium delicatulum, Hypnum curvifolium, and H. imponens), cat-tail moss (Isothecium myosuroides), Menzie's neckera (Metaneckera menziesii), Douglas' neckera (Neckera douglasii), lanky moss (Rhytidiadelphus loreus), and goose neck moss (Rhytidiadelphus triquetrus). We received two comments recommending several additional species: rough moss (Claopodium crispifolium), Sanionia uncinata, Thudium recognitum, and the genus Hypnum, which includes approximately 20 species. The moss Claopodium crispifolium is commercially harvested, whereas the other taxa were suggested due to similarity of appearance among species. None of these species has previously been proposed for CITES listing. These species of mosses are generally widespread throughout their respective ranges. The distributions of some of these species outside North America and western Europe are incompletely known.

The moss species Claopodium crispifolium, Eurhynchium oregana, Isothecium spiculiferum, Isothecium stoloniferum, and Neckera douglasii are native to the Pacific Northwest of North America. Three species, Antitrichia curtipendula, Metaneckera menziesii, and Rhytidiadelphus loreus are also predominately found in the Pacific Northwest of North America. Additionally, Antitrichia curtipendula is found in Europe and Africa; Rhytidiadelphus loreus in Europe and China; and Metaneckera menziesii in Asia. Hypnum curvifolium and H. imponens are distributed from the Midwest to the East Coast of North America. Thuidium delicatulum is found in North, Central, and South America, Europe, and Asia. Hypnum imponens occurs in Europe. Isothecium myosuroides is found in North America and Europe. Rhytidiadelphus triquetrus, Thuidium recognitum, and most of the species in the genus Hypnum are circumboreal species found throughout the United States and Canada, Europe, and Asia. Sanionia uncinata has been reported to occur in North and South America, Europe, and Asia. Typically, these moss species are found in mixed-conifer/hardwood forests. Whole plants are harvested as mats, which are easily peeled off limbs and logs, forming a kind of moss “pelt.” Moss pelts are sold internationally and domestically as packing material in the horticulture trade and for decorations in the floral greens industry. The United States exports primarily to the Netherlands and Germany.

The majority of harvested mosses of the United States is concentrated in two geographical areas: the Pacific Northwest and the Appalachian Mountains. In the Pacific Northwest the commercial demand for mosses has increased steadily since the 1980s. For example, on one particular Pacific Northwest National Forest, permits have been issued for the harvest of 25,000 bushels of moss annually since 1989. Estimates based on permits for moss harvest on publicly owned lands in northwest Oregon are more than 500,000 pounds per year, and illegal harvest is thought to be at least twice the legal harvest. Very little is known about growth and recovery following commercial harvest of moss species and the ecological role that these species play in ecosystems. A prominent bryologist in the western United States commented that one of the many ecological roles mosses have in the Pacific Northwest is nutrient cycling and that excess moss harvest may lead to loss of soil fertility in heavy rainfall forests. U.S. Forest Service field recovery studies in the wild indicate that sites which have been commercially harvested for moss will not be suitable for reharvest for decades. Because population and trade information is still lacking, the United States is not planning to submit a proposal at COP12 to list moss species in Appendix II. Instead, we have contracted a study on trade in U.S. native mosses.

4. Osha and Look-Alike Congeneric Species (Ligusticum Porteri and Ligusticum spp.)—Proposal for inclusion in Appendix II

Osha is a medicinal plant that occurs throughout much of the Rocky Mountains from northern Wyoming to Chihuahua, Mexico. Several other North American Ligusticum species (L. filicinum, L. canbyi, and L. tenuifolium) are similar to L. porteri and may be collected for medicinal purposes and marketed as osha. Osha is not currently listed under CITES and has not previously been proposed for CITES listing. The primary threat to osha appears to be collection for the medicinal market. Osha is traded as ground roots, whole roots, tinctures, and seeds for use as a remedy for head colds, coughs, influenza, pneumonia, and fever. Research indicates that demand for L. porteri is increasing. North American Ligusticum species may be replacing Chinese Ligusticum species in the marketplace because these taxa are becoming increasingly rare due to habitat loss and market pressure. Anecdotal information indicates that demand for osha from the United States may be rising because of decline in populations in Mexico. Experts from U.S. land management agencies indicate that L. porteri has been in decline over the last 10 years.

Osha is one of the seven wild medicinal plants under a moratorium on harvest in the State of Montana. In addition, the U.S. Forest Service is not permitting collection of osha on their lands because of concerns over the sustainability of harvest. The harvest of osha is destructive because the whole plant is removed in the process. Cultivation of the species is limited at this time. In order to support the State of Montana and the U.S. Forest Service moratorium on harvest of these species and generate additional trade data, we intend to review and consider listing U.S. native Ligusticum species in CITES Appendix III. Consequently, the United States does not intend to seek Appendix-II listing of this taxon at this time.

5. Coneflowers (Echinacea spp.)—Proposal for Inclusion in Appendix II

The genus Echinacea, comprising nine species, occurs primarily in the Great Plains of the United States and Canada. It has not previously been proposed for CITES listing.

The primary threats to Echinacea species vary. Some are collected from the wild for their medicinal properties, some are incidentally collected along with the targeted species, and all are experiencing habitat loss and degradation due to a wide variety of factors, including fire suppression, grazing, use of herbicides, and conversion of prairie to pasture. In 1999, Echinacea ranked as the number-one-selling herb in the United States and eighth in international herb sales. Of the nine species in the genus, three (Echinacea angustifolia, E. pallida, and E. purpurea) have proven medicinal properties and are known to be traded internationally. Four other species (E. atrorubens, E. paradoxa, E. sanguinea, and E. simulata) are known to be harvested from the wild or suspected to be collected incidentally due to their similarity of appearance to targeted Echinacea species where they co-occur. Two others (E. laevigata and E. tennesseensis) are quite rare, protected under the U.S. Endangered Species Act, and unlikely to be subject to commercial collection. In particular, E. angustifolia and E. pallida, though still locally common in parts of their ranges, are known to be declining due to over-collection of roots and seeds from the wild. Organized collection efforts, trespassing on private lands, and unauthorized collecting on public and tribal lands for the purposes of collecting Echinacea roots and seeds have been documented, as has the extirpation of entire populations by diggers. Montana and North Dakota have passed legislation banning the harvest of E. angustifolia. In order to control illegal trade in these species and generate additional trade data, we intend to review and consider listing U.S. native species of the genus Echinacea in CITES Appendix III. Consequently, the United States does not intend to seek Appendix-II listing for this taxon at this time.

6. Saw-Toothed Lewisia (Lewisia Serrata)—Proposal for Removal From Appendix II

Saw-toothed lewisia has a very restricted distribution and occurs at only ten localities in California. This species was listed in CITES Appendix II in 1983. It was proposed for delisting by Switzerland, as the Depository Government for CITES, at COP11. The proposal was withdrawn as a result of discussions in which the United States agreed to further review the species prior to COP12. Lewisia serrata is listed as Vulnerable by the IUCN. It is a U.S. Forest Service Sensitive Species. The primary threats to L. serrata are mining, timber harvest, development, horticultural collecting, and small hydroelectric power projects. Most populations of L. serrata occur on National Forest System lands. Though demand for this species is considered low and confined to alpine plant collectors, the U.S. Forest Service Interim Management Guide for this species cites poaching by private or commercial collectors as a potential threat to its existence. Of the four known occurrences of L. serrata on the El Dorado National Forest, one has been extirpated, possibly by illegal collection for horticultural use. An observed 80 percent decline in another population may have been due to poaching. International trade is not a significant threat since few applications to export this species have been received, and no trade has been recorded since it was listed. However, due to reports of illegal collection and the potential for individuals to enter international trade, the United States does not intend to submit a proposal to remove L. serrata from CITES Appendix II at this time.

7. Oconee-bells (Shortia Galacifolia)—Proposal for Removal From Appendix II

Oconee-bells has a restricted distribution in Georgia, North Carolina, South Carolina, and Virginia. It is abundant at most of its few remaining sites. This species was listed in CITES Appendix II in 1983. It was proposed for delisting by Switzerland, as the Depository Government for CITES, at COP11. The proposal was withdrawn as a result of discussions in which the United States agreed to further review the species prior to COP12. Shortia galacifolia is listed as Vulnerable by the IUCN. It is also a U.S. Forest Service Sensitive Species. Natural populations are protected on lands managed by the U.S. Forest Service and the State of North Carolina. The primary threat to S. galacifolia is habitat loss, but populations have been lost in the past due to horticultural collection. Illegal collection from U.S. Forest Service lands is suspected. There is reportedly a reasonable demand for this species within the United States, particularly within its natural range. However, there is no international trade in this species, partly because the Division of Scientific Authority has been unable to find no detriment for export applications on three occasions since 1994. It is rarely grown outside its natural range, although it is cultivated in Europe to a limited extent. Due to reports of illegal collection and the potential for individuals to enter international trade, the United States does not intend to submit a proposal to remove S. galacifolia from CITES Appendix II at this time.

8. Goldenseal (Hydrastis Canadensis)—Proposal for Removal From Appendix II

Goldenseal is distributed across the eastern United States and into Ontario. It has been listed in CITES Appendix II since COP10 (June 1997). The American Herbal Products Association and American Botanicals have proposed that this species be removed from the CITES Appendices. The primary threats to goldenseal are habitat loss due to development and logging and over-collection from the wild. It is estimated that tens of millions of goldenseal individuals are harvested from the wild each year for the herbal products industry. However, only a small fraction of this total is recorded in international trade. Though it has a wide geographic distribution, goldenseal has a relatively narrow niche. Specific habitat requirements, poor seed dispersal and germination, and a highly clumped distribution pattern make this species particularly susceptible to harvest pressures. Goldenseal is becoming increasingly rare and many areas report that populations are in sharp decline due to over-harvest. Since populations are not monitored by most States, there is little direct evidence of current population trends beyond one study that documents a dramatic decline in populations at a Nature Preserve in Indiana over a 26-year period. Poaching has been reported throughout the range, as has the extirpation of entire populations by collectors. Six States (Connecticut, Georgia, Massachusetts, Minnesota, North Carolina, and Vermont) list goldenseal as Endangered. Canada lists it as Threatened. For these reasons, the United States does not intend to submit a proposal to remove goldenseal from Appendix II unless substantial additional information becomes available to indicate that its status in the wild is secure.

9. Bloodroot (Sanguinaria Canadensis)—Proposal for Inclusion in Appendix II

Bloodroot has a very broad range and is a frequent component of mesic hardwood forests across the eastern United States and southeastern Canada. It has not previously been proposed for CITES listing. The primary threats to bloodroot are habitat loss and over-collection. It is used in toothpaste, cough syrup, and cattle feed. It is also sold as nursery stock. Most bloodroot is harvested from the wild in the eastern United States. It is cultivated only on a very limited scale. Bloodroot is consumed domestically as well as traded abroad, primarily to Europe. Estimates of the total amount of bloodroot harvested each year span several orders of magnitude, but may include several tens of thousands of pounds of dried rhizomes per year for the medicinals market. The amount harvested for cattle feed is unknown, but potentially significantly greater. Some sources indicate that bloodroot exports are ten times larger than the amount consumed within the United States. Other threats to bloodroot include displacement by exotic species, cattle grazing, surface mining, and the introduction of non-native genotypes from other regions by those attempting to establish it in cultivation. Bloodroot is suspected to be stable in parts of its range, though declining locally in many areas. It is rare in Indiana, Louisiana, Rhode Island, South Carolina, South Dakota, Tennessee, Virginia, and Manitoba; extirpated from Washington, DC; and “exploitably vulnerable” in New York. Due to the lack of clear evidence that this species is sustaining a general decline in the wild, the United States does not intend to submit a proposal to list it in CITES Appendix II at this time.

10. Black cohosh (Cimicifuga racemosa [Actaea racemosa]) and Look-Alike Congeneric Species (Cimicifuga spp.)—Proposal for Inclusion in Appendix II

Black cohosh has a very broad range in eastern North America and is frequently encountered in a wide variety of wooded habitats across its range. It has not previously been proposed for CITES listing. The primary threats to black cohosh are habitat loss and over-collection. It is in great demand for its medicinal properties. Already popular in Europe and Australia, where most of the harvest is shipped, black cohosh has recently experienced a dramatic increase in consumption, especially in the United States. Some raw material is exported from the United States to Europe, where it is processed for re-export back to the United States. Indicators show long-term growth in demand for black cohosh despite recent wholesale price fluctuations. Most black cohosh is harvested from the wild in the eastern United States. It is cultivated only on a very limited scale. Average annual harvest from the wild is estimated to impact tens of millions of individuals per year. Black cohosh is rare in Illinois, Massachusetts, Mississippi, and Ontario, and extirpated in Iowa, but reportedly abundant in other portions of its range. However, many experts state with certainty that unsustainable harvest is occurring and that populations are declining, especially on public lands. Unauthorized collection on National Forests is reported to be extensive, and incidents of poaching from National Parks have been documented in recent years. Though it is unlikely that they are targeted for collection from the wild, mountain bugbane (C. americana [=Actaea podocarpa]) and Appalachian bugbane (C. [=Actaea] rubifolia) are suspected to be incidentally collected along with black cohosh where they co-occur. There are also three other species of Cimicifuga found in the western United States and Canada that are likely to be indistinguishable in trade from C. racemosa. In order to control illegal trade in these species and generate additional trade data, we intend to review and consider listing U.S. native species of the genus Cimicifuga in CITES Appendix III. Consequently, the United States does not intend to seek Appendix-II listing for this taxon at this time.

11. Blue cohosh (Caulophyllum thalictroides)—Proposal for Inclusion in Appendix II

Blue cohosh has a very broad range across the eastern United States and Canada and is frequently encountered in a wide variety of wooded habitats. It has not previously been proposed for CITES listing. The primary threats to blue cohosh are habitat destruction and over-collection. It is harvested from the wild for its medicinal value and for sale as nursery stock. An estimated 10,000-25,000 pounds (dry) were traded in 2000, all of which were wild collected. The U.S. market for blue cohosh is relatively small. The species is also traded overseas, especially to Europe, though the amount of material exported is unknown. The number of blue cohosh plants per population is highly variable and can range from only a few stems to thousands of individuals. In certain areas it is considered at risk from collection pressure, but some reports indicate that it is stable in portions of its range. It is rare in Arkansas, Kansas, North Dakota, Nebraska, Rhode Island, South Carolina, South Dakota, Manitoba, and Nova Scotia. Insufficient biological and trade data exist to indicate that blue cohosh qualifies for Appendix II of CITES at this time. For these reasons, the United States does not intend to submit a proposal to list blue cohosh in Appendix II unless substantial additional information is received.

12. Yellow Yam (Dioscorea villosa)—Proposal for Inclusion in Appendix II

The taxonomy of Dioscorea villosa is inadequately understood. It is unclear whether this species is restricted to the coastal plain or has a much broader distribution throughout the eastern United States. It has not previously been proposed for CITES listing. The primary threats to D. villosa are habitat loss and commercial over-exploitation. It is of considerable collecting interest for the herbal products trade. However, due to taxonomic confusion, which species of Dioscorea are affected by the market is often unclear. Approximately 60,000 pounds (dry) of D. villosa are estimated to have been collected from the wild each year for the past three years, up from an estimated 20,000-25,000 pounds (dry) per year in the early 1990s. This species may be declining in the wild, but assessment is difficult given taxonomic uncertainties. In addition, insufficient trade data exist to indicate that D. villosa qualifies for Appendix II of CITES at this time. For these reasons, the United States does not intend to submit a proposal to list this species in Appendix II unless substantial additional information becomes available.

13. Sundews Native to the United States (Drosera spp.)—Proposal for Inclusion in Appendix II

The nine species of sundews native to the United States are Drosera anglica, D. brevifolia, D. capensis, D. capillaris, D. filiformis, D. intermedia, D. linearis, D. rotundifolia, and D. tracyi. Sundews have not previously been proposed for CITES listing. Sundews generally grow in acidic soils and hydrologically sensitive areas. Therefore, they are infrequent in their distribution, though some are quite wide ranging and others are locally common where they are found. Drosera brevifolia and D. capillaris are listed as Rare by the IUCN. The primary threats to sundews are habitat loss and over-collection for their ornamental and medicinal values. Many U.S. States and Canadian provinces provide special protection for various species of Drosera. In particular, the State of Montana and U.S. Forest Service Regions 1 and 4 have established a temporary moratorium on the harvest of wild Drosera spp. from their lands. Drosera anglica, D. intermedia, and D. linearis are U.S. Forest Service Sensitive Species. However, D. linearis is the only sundew native to the United States known to be declining in status. The primary cause of the decline is habitat degradation. There are also no data to indicate that sundews harvested from the wild are entering international trade. For these reasons, the United States does not intend to submit a proposal to list this taxon in CITES Appendix II unless we receive substantial additional information indicating that international trade is a factor threatening these species.

14. Ill-Scented Trillium (Trillium erectum)—Proposal for Inclusion in Appendix II

Ill-scented trillium occurs in eastern Canada and the eastern United States at mid to high elevations in moist woods and on wooded slopes. It is relatively common throughout the central portion of its range where suitable habitat is available. It has not previously been proposed for CITES listing. The primary threats to T. erectum are habitat loss, over-collection, and browsing by deer. This species is collected for ornamental and medicinal uses, sometimes intensively. Collection pressure may be exacerbated by the fact that it is slow to mature and primarily reproduces by seed. An estimated 37,500 to 75,000 plants are harvested for the United States and European herbal products markets every year. Wild-collected Trillium rhizomes are also sold domestically and exported to Japan, the Netherlands, and the United Kingdom as ornamentals. International demand for T. erectum may be on the order of several thousand plants per year. Some experts suspect that this species is over-collected and becoming scarce in some parts of its range. However, others say T. erectum is relatively stable. It is common in Pennsylvania, North Carolina, South Carolina, Virginia, and parts of Michigan, but rare in Delaware, Rhode Island, Manitoba, and Nova Scotia; Endangered in Illinois; and “exploitably vulnerable” in New York. Habitat destruction is likely the greatest threat to this species. For these reasons, the United States does not intend to submit a proposal to list this species in CITES Appendix II unless we receive substantial additional information indicating a decline in its biological status.

15. Cat's claw (Uncaria tomentosa and U. guianensis)—Proposal for Inclusion in Appendix II

Cat's claw is a vine native to much of tropical Central and South America. It has not previously been proposed for CITES listing. The primary threat to cat's claw appears to be a sudden increase in potentially unsustainable collection to meet the demand for the plants' medicinal properties. Despite wide distribution, most of the commercial supply of cat's claw comes from Peru. In 1995, Peru exported over 700 tons of dried bark. As of 1999, cat's claw was in demand in more than 30 countries outside Peru, with the United States being the largest importer. The inner bark of cat's claw is reputed to have therapeutic properties that hold promise for the treatment of numerous conditions such as arthritis, cancers, tumors, and viral infections, including AIDS. Cat's claw has been and still is being harvested mainly from natural stands in high-elevation natural forest. The plant is usually cut at the base and the vine is pulled down from the canopy. Frequently, collectors cut down the tree that supports the cat's claw vine. Forestry officials and conservationists in Peru are encouraging people to propagate cat's claw. The Peruvian Government issued a Presidential Decree in 1999 that prohibits the export of un-processed or mechanically processed cat's claw unless it is obtained from managed natural stocks or plantations. Studies aimed at producing cat's claw in vitro are on going. Little biological or trade information about cat's claw from other Central and South America countries is available. While we will continue to collect information and monitor this species, the United States does not intend to submit a proposal to include it in CITES Appendix II at COP12.

16. Cascara Sagrada (Frangula purshiana [=Rhamnus purshiana])—Proposal for Inclusion in Appendix II

Cascara sagrada is a shade-tolerant understory tree species of Pacific Coast forests of the United States and Canada. It has not previously been proposed for CITES listing. The primary threat to this species is over-exploitation of the bark for its medicinal properties, which is used as a laxative and in sunscreen preparations. Cascara sagrada has long been subjected to intensive exploitation in considerable portions of its range, especially southern British Columbia, western Washington and Oregon, and northern California. Since its peak in the 1960s, the demand for cascara bark has diminished due to the development of alternative drugs and methods of synthesizing the active ingredient found in the bark. In addition, it has been established in plantations, though possibly only to a limited extent. Cascara sagrada has since recovered through much of its natural range, even to the point that special legal protection for it in Canada was repealed. However, it may be experiencing a resurgence in demand in the United States as a result of growing interest in “natural” remedies and an FDA ban on certain active ingredients in laxatives.

Cascara sagrada has ranked among the top-selling herbal supplements in the United States in recent years. In addition, demand for it in Europe is significant, and may be substantially larger than domestic demand. Estimates of the average harvest of cascara sagrada bark range from several hundred thousand to a few million pounds (dry) each year, mostly from the wild. Methods of sustainably harvesting the bark are known, but not always used. Some experts indicate that this species is declining in the wild; that many populations are harvested repeatedly, to the extent that they no longer function naturally in their environment; and that older trees cut for bark are becoming uncommon. Incidents of illegal collection have been documented in recent years. The intensity of collecting, and therefore the degree of threat to the species in major portions of its range, is speculative and requires additional documentation. The United States is not planning to submit a proposal to list cascara sagrada in CITES Appendix II, unless we receive additional information suggesting we should take other action.

17. Bigleaf Mahogany (Swietenia macrophylla)—Proposal for Inclusion in Appendix II

Bigleaf mahogany ranges from Mexico to Brazil and Bolivia. Defenders of Wildlife has requested that the United States propose this species for inclusion in Appendix II. Proposals to include this species in Appendix II were submitted at COP8 (March 1992) by Costa Rica and the United States, at COP9 (November 1994) by the Netherlands, and at COP10 (June 1997) by Bolivia and the United States. At COP8, the proposal was withdrawn. At COP9, the proposal submitted gained 60 percent of the vote, short of the two-thirds majority needed for adoption. The COP10 proposal also received the majority of the votes, but did not obtain the required two-thirds majority. The primary threat to S. macrophylla is commercial over-exploitation. Approximately 120,000 cubic meters of bigleaf mahogany are traded internationally each year, not including illegal and unreported trade, which are likely to be substantial. The United States is by far the largest importer of the species. Brazil, Bolivia, and Peru are the largest exporters. Mahogany is a very long-lived species, with generation times approaching centuries. Regeneration is random, occurring in extensively cleared areas after large-scale disaster. Therefore, it generally occurs in even-aged stands, and modern logging practices commonly lead to the complete removal of stands over a large area, leaving few smaller individuals and an insubstantial seed source for future regeneration. Regeneration after selective felling is often poor or non-existent because seeds need a large canopy opening to germinate. Harvesting and processing are very inefficient.

Bigleaf mahogany populations have been depleted in major portions of its range, especially from Mexico to Colombia. The most extensive stands remain in Brazil, which recently imposed a temporary moratorium on the harvest and export of the species. The species is listed as Vulnerable by WCMC and the IUCN World List of Threatened Trees. Bigleaf mahogany (from the Americas) was listed in Appendix III by Costa Rica in November 1995. The listing included saw-logs, sawn wood, and veneer sheets (i.e., other derivatives such as furniture are exempt from CITES requirements). Bolivia (March 1998), Brazil (July 1998), Mexico (April 1999), Peru (June 2001), and Colombia (October 2001) subsequently have taken the same action. An Appendix-III listing requires that countries that list the species issue permits and ensure that specimens are legally acquired. Non-listing range countries must issue certificates of origin, and importing countries are required to ensure that all shipments are accompanied by the appropriate CITES documents.

The United States is unlikely to submit a proposal at COP12 to list bigleaf mahogany in CITES Appendix II. We are encouraged by recent efforts by Brazil to control illegal trade in this species and by the continuing increase in the number of countries listing this species in Appendix III, although we remain concerned about continuing reports of illegal and unsustainable trade in the species. We will continue to be active in efforts to improve the control of trade in S. macrophylla and monitor progress in the event that further action is needed in the future.

18. Port-Orford-Cedar (Chamaecyparis lawsoniana)—Proposal for Inclusion in the CITES Appendices

The Port-Orford-cedar is restricted to a small geographic area of 220 miles, from the southwest corner of Oregon to the northwest corner of California. The majority of the species' range is managed by the U.S. Forest Service and the Bureau of Land Management. We received one comment from TRAFFIC North America requesting that “the United States consider concrete measures to control harvest and/or exports of Port-Orford-cedar by examining the conservation merits of a CITES listing for this species.” The United States considered an Appendix-II listing proposal for the Port-Orford-cedar for COP9, but our review at that time concluded that existing State and Federal control mechanisms were sufficient to prevent over-collection of the species. Nearly all harvested Port-Orford-cedar is exported at a premium price to Japan as a substitute for the rare Japanese hinoki (C. obtusa) wood.

A 1998 report, compiled by WCMC for the CITES Management Authority of the Netherlands, evaluated the Port-Orford-cedar as meeting the CITES listing criteria for Appendix I. However, most of the decline in Port-Orford-cedar was due to the fact that the species is extremely susceptible to an introduced root rot disease that has spread throughout the species' range. There is currently no known cure for trees infected with the root rot; infected trees are harvested for commercial sale. In 1994, The Nature Conservancy classified Port-Orford-cedar plant communities as G2 (globally imperiled). The U.S. Forest Service and the Bureau of Land Management recently completed a comprehensive range-wide assessment of Port-Orford-cedar indicating that the species is stable. Therefore, in the absence of proof of trade-based threats posed to the species, the United States does not currently intend to submit a proposal to list C. lawsoniana in either CITES Appendix I or II.

19. Lloyd's Mariposa Cactus (Sclerocactus mariposensis)—Proposal for Transfer From Appendix I to Appendix II

Sclerocactus mariposensis is a small cactus found in the Chihuahua Desert region of northern Mexico and southwest Texas. This species has a very restricted distribution, known from about 30 sites. The species was listed in Appendix II on July 1, 1975, and later uplisted to Appendix I on July 29, 1983. At COP11, Switzerland, on behalf of the Plants Committee, proposed to downlist the species from Appendix I to II. The proposal was rejected with a vote of 47 to 35. Sclerocactus mariposensis is listed as Threatened under the U.S. Endangered Species Act and as endangered under Mexican domestic regulation. Collecting from the wild has had the largest impact on S. mariposensis and remains its greatest threat. Mining and drilling activities, off-road vehicles, and grazing also threaten the species within the United States. Records indicate that export of seeds and plants from the United States has been limited to artificially propagated specimens. However, artificial propagation of the species is reported to be difficult. Therefore, transfer of S. mariposensis to Appendix II could shift trade from artificially propagated specimens to wild specimens, as trade in seeds is usually not regulated under CITES Appendix II. The impact on U.S. populations could be particularly great because trade in cacti seeds of Appendix-II Mexican species originating in Mexico is regulated under the Convention, but trade in seeds of the same species originating in the United States is not. For these reasons the United States does not intend to submit a proposal to transfer the species from Appendix I to II.

20. Siler's Fish-Hook Cactus (Sclerocactus sileri)—Proposal for Transfer From Appendix II to Appendix I

It appears from our review of the literature that Sclerocactus sileri is a synonym for Pediocactus sileri, which is listed as Threatened under the U.S. Endangered Species Act. It was listed in Appendix II on July 1, 1975, and later uplisted to Appendix I on July 29, 1983. Inconsistencies exist in descriptions of the range of this species. We will continue to investigate to determine whether these two names refer to the same species. At this time, the United States does not intend to submit a proposal to transfer the species from Appendix II to I.

21. Small-flower fish-hook cactus (Sclerocactus parviflorus)—Proposal for Transfer From Appendix II to Appendix I

Sclerocactus parviflorus is a small U.S. endemic cactus species occurring in Utah, Arizona, Colorado, New Mexico, and Nevada. It was listed in Appendix II on July 1, 1975. Very little information is available about the status of this species. Arizona protects the species because it is subject to damage by theft or vandalism. It is considered a rare plant in New Mexico, under the name S. cloveriae. Information provided by New Mexico indicates that, although collection of the species occurs, it is presently at a rate that does not threaten the species. Seeds of S. parviflorus are available on the Internet from Websites located in Germany and Malta, indicating international demand for the species exists and international trade occurs. Because so little information about the status of the species is available at this time, the United States does not intend to submit a proposal for transfer to Appendix I. However, we will continue to study this species to determine if a change in listing is needed.

22. All Appendix-II Plants—Proposal To Remove the Exemption of all Seeds, Pollinia, and Fruits, Except Those From Artificially Propagated Plants

The Minnesota Natural Heritage and Nongame Research Program suggested that we should submit a proposal to remove the exemption for seeds, pollinia, and fruits of Appendix-II species except for such specimens derived from artificially propagated plants. The Minnesota Natural Heritage and Nongame Research Program made this suggestion because, it stated, “the removal of reproductive parts is tantamount to removal of plants and should be subject to the same restrictions.” The CITES Parties have agreed to exempt seeds and other parts of Appendix-II plants because, generally, trade in seeds is not a threat to the survival of species, since often many more seeds are produced than actually survive to adulthood. Furthermore, Appendix-II plants are those considered to be sufficiently abundant and secure to allow some level of removal from the wild, even as adult plants. In the case of perennial plants, the removal of some seeds is not considered to be a threat to the survival of the species because the plants are likely to produce additional seeds in the future, and some plants reproduce vegetatively at greater rates than through seed. While we realize that all seed is not expendable, and some species produce seed at very low rates, a broad change to include all seed and other reproductive parts of Appendix-II species is not warranted. It is worth noting that the CITES Parties adopted a proposal by Mexico to include seeds in the listing of that country's Appendix-II cactus species, but this has presented implementation problems that have prompted the CITES Plants Committee to pressure Mexico to delist these seeds. If a species is so rare or has specific life-history characteristics that would warrant the inclusion of seeds in a listing, the species should be considered for listing in Appendix I. However, the United States does not intend to go forward with a proposal to include seeds, pollinia, and fruits in the listings of all Appendix-II plants.

Invertebrates

23. Eastern Hemisphere tarantulas (Poecilotheria spp.)—Proposal for Inclusion in Appendix II

The 11 known species of Eastern Hemisphere tarantulas (Poecilotheria) occur only in the forests of southern India and Sri Lanka. They are threatened by habitat loss and collection for the commercial hobbyist trade. None of the species are currently listed under CITES. At COP11, the United States co-sponsored a proposal with India and Sri Lanka to list all of the Eastern Hemisphere tarantulas in Appendix II. Although the proposal received a simple majority of votes, it did not receive the two-thirds majority necessary for adoption. Since COP11, the United States has remained active in efforts to conserve these Eastern Hemisphere tarantula species. We have urged both India and Sri Lanka to list Poecilotheria spp. in CITES Appendix III. Although this has not yet happened, India recently included the Eastern Hemisphere tarantulas in its schedule of protected species under the Indian Wildlife Protection Law (the tarantulas are already protected by Sri Lankan law). The United States sponsored workshops in India and Sri Lanka to train local conservationists in methods for identifying and conducting field population surveys of tarantulas. We expect that this training will lead to the initiation of long-term monitoring programs for the species. We are also active in efforts to stop illegal collecting of tarantulas by foreign hobbyists and commercial collectors. Given these ongoing conservation efforts, the United States is unlikely to submit a listing proposal for Eastern Hemisphere tarantulas at COP12. However, we are aware that the two range countries, India and Sri Lanka, may have interest in submitting a proposal, and we have offered our assistance to them in the preparation of such a proposal.

Fish

24. Whale Shark (Rhincodon typus)—Proposal for Inclusion in Appendix II

The whale shark is the largest fish and is a sluggish pelagic filter feeder often seen swimming on the surface. It occurs in tropical and sub-tropical waters worldwide. The United States unsuccessfully proposed the species for inclusion in Appendix II at COP11. The primary threat to the species is directed commercial harvest, exacerbated by a vulnerable life history. Harvest is facilitated by seasonal aggregations in known areas and driven by a lucrative international market for fins and meat. The whale shark has recently been targeted for its fins, meat, and liver in several places in Asia, including India, Pakistan, China, Indonesia, the Philippines, Taiwan, Japan, and the Maldives. Population size is unknown, but the species is considered to be rare. Local seasonal populations have apparently declined drastically in some places, while fishing effort and price have increased. It is not known to what degree fishing in one area affects populations in other areas, although the fact that at least some of the sharks migrate long distances within ocean basins suggests that the effects may not be purely local.

Whale sharks are currently protected in Australia, the Maldives, Honduras, Malaysia, the U.S. Atlantic coast and Gulf of Mexico, India, South Africa, and the Phillippines, leaving Taiwan as the only jurisdiction with a significant commercial fishery. Illegal trade may be growing and compromises the domestic protection mentioned above. Nonetheless, we are concerned that only limited data are available on trade volumes and the impact of remaining fisheries. Therefore, the United States is reluctant to submit a listing proposal at this time. However, we are still interested in determining ways of obtaining information on current levels of international trade (beyond the valuation data above), range country initiatives for CITES listings, and development of identification manuals.

25. Basking shark (Cetorhinus maximus)—Proposal for Inclusion in Appendix II

The Defenders of Wildlife and the Humane Society International recommended that the United States consider a proposal for listing the basking shark in CITES Appendix II. The basking shark is widely distributed in coastal waters and on the continental shelves of temperate zones in the Northern and Southern Hemispheres. The United Kingdom proposed the species for listing in Appendix II at COP11, with the full support of the United States, but was unsuccessful. The species is planktivorous, bears a small number of live young (ovoviviparous), and is the second largest fish in the world (up to 10 meters in length and 5-7 tons in weight), exceeded only by the whale shark. The main threat to basking shark populations is from fishing operations, both targeted on basking sharks and incidental or by-catch in other fisheries. However, because these fish congregate in bays and shallow water, they are also at risk from collisions with vessels. The biology of the species makes it especially vulnerable to exploitation: it has a slow growth rate, a long time to sexual maturity (ca. 12-20 years), a long gestation period (1-3 years) and a similar interval between pregnancies, low fecundity (the only recorded litter was of just six very large pups), and probable small populations. Its habit of “basking” at the surface makes it vulnerable to harpoon fisheries. There are a few well-documented fisheries for C. maximus (especially from the Northeastern Atlantic) and these suggest stock reductions of 50-90 percent over short periods (typically a few decades or less). These declines have persisted into the long-term with no apparent recovery several decades after exploitation has ceased. Other data, based on sightings and less well-recorded fisheries, suggest similar declines.

Demand for the fins of C. maximus has increased in recent years. Fins are known to enter international trade, particularly exported from the Northeastern Atlantic to Eastern Asia, where they command a high value, either fresh or dried, as a food item. This demand currently maintains the viability of targeted fisheries for this species and encourages incidental take in non-target fisheries. A single C. maximus can yield over 90 kilograms of fins, and reported prices range from 100-300 U.S. dollars per kilogram (dried) and 26 U.S. dollars per kilogram (fresh). Fins, if unprocessed, are identifiable in trade. There is only limited demand for the flesh and cartilage of this shark. The species is given domestic protection over a limited part of its range, and the United Kingdom placed C. maximus fins and whole animals in Appendix III in September 2000. The United States is evaluating the benefits of listing basking shark in Appendix II of CITES.

Given the favorable discussions and votes at COP11, the United Kingdom may re-submit an Appendix-II listing proposal for basking sharks at COP12. Therefore, the United States does not intend to develop a proposal at this time, but will rather consult with the United Kingdom and the European Union as it prepares for COP12. The United States may support any such Appendix-II proposal for basking shark, or may reconsider its plans if no proposal is forthcoming. We would appreciate any information that you might provide on the current status, conservation threats, and international trade in basking shark.

26. White shark (Carcharodon carcharias)—Proposal for Inclusion in Appendix I

The Defenders of Wildlife and the Humane Society International suggested that the United States consider listing the white shark in CITES Appendix I or II. Australia and the United States unsuccessfully proposed the white shark for inclusion in CITES Appendix II at COP11. Subsequently, Australia listed the species in Appendix III, effective October 2001. Existing data suggest that white sharks are uncommon and occur singly as scattered, unassociated individuals and occasionally as pairs. The white shark has always been uncommon to scarce throughout its range excepting certain areas usually frequented by pinniped colonies where it may be seasonally common in its search for food. Evidence of population declines exist from commercial and recreational fishery data in the northwest Atlantic, beach meshing, game fishing, and sightings data in Australia, and beach meshing in South Africa. However, it is impossible to prove worldwide decline in the white shark since it is widespread, and data have historically been meager. Precautionary management measures have recently banned possession and landing of white sharks in several areas (California, U.S. East Coast and Gulf of Mexico, Australia, South Africa, Malta, Namibia, and the Maldives).

The primary threats to white sharks include by-catch in longline and gillnet fisheries, trophy hunting, and demand for jaws and teeth as curios. We believe that international trade in white shark products represents a negligible threat to the species, especially when compared to by-catch losses and other incidental mortality in commercial fisheries. Therefore, the United States does not support a CITES Appendix-I listing for white sharks at this time. However, we could consider supporting or co-sponsoring another country's proposal for an Appendix-II listing to improve the collection of trade data and encourage regional management if the situation arises, and especially if the proposal contained additional trade information to support a listing.

27. Southern bluefin tuna (Thunnus maccoyii)—Proposal for Inclusion in Appendix II

The Humane Society International recommended that the United States propose the Southern bluefin tuna for listing in CITES Appendix II. The Southern bluefin tuna inhabits portions of the Pacific, Atlantic, and Indian Oceans in the Southern Hemisphere. The only known spawning ground is located south of Java, Indonesia, and northwest of Australia. Juveniles then migrate along the west coast of Australia, inhabiting coastal waters of southwest, south, and southeast Australia. As fish reach maturity, they extend their ranges to the circumpolar regions. The predominant threat to the species is commercial fishing. The high commercial value of the species makes it extremely attractive to targeted fishing, even when stocks are depleted. The global catch of Southern bluefin tuna has declined from about 80,000 tons in the late 1950's to less than 20,000 tons. Data from Australia, New Zealand, and Japan suggest that the spawning stock biomass is now only 25-47 percent of that in 1980 and 37-58 percent of that in 1986. Since the mid-1990s, stock biomass has been roughly stable with possible slight increases or decreases. There is a risk of further stock declines if current fishing levels are maintained.

International management of the fishery is under the Convention for the Conservation of Southern Bluefin Tuna to which Australia, Japan, New Zealand, and the Republic of Korea are Parties. This Convention establishes (since 1994) the Commission for the Conservation of Southern Bluefin Tuna (CCSBT), which sets the global Total Allowable Catch (TAC) and national allocations for its member countries. It provides an internationally recognized forum for other countries/entities to actively participate in issues relating to management of the species. The CCSBT is actively pursuing efforts to encourage accession to the Convention for the Conservation of Southern Bluefin Tuna by other countries involved in the fishery so that the global fishery can be managed sustainably. The CCSBT has also instituted a Catch Certification Scheme to obtain more accurate information on international trade. Given the regional nature of the fishery, the growing cooperation between harvesting nations, and the recent institution of a Trade Certification Scheme, the United States does not believe an Appendix-II listing is warranted for Southern bluefin tuna at this time.

28. Spiny Dogfish (Squalus Acanthias, Northwest Atlantic Stock Only)—Proposal for Inclusion in Appendix II

The Humane Society of the United States recommended that the United States consider proposing the spiny dogfish for listing in CITES Appendix II at COP12. The spiny dogfish has a circumglobal distribution and is found in the temperate portions of the Atlantic and Pacific Oceans. This species has not previously been proposed for CITES listing. According to the most recent scientific assessment, spiny dogfish in the Northwest Atlantic are over-fished. Although total stock biomass is currently at a high level, harvest levels and exploitation rates of the late 1990s cannot be sustained. Spawning stock biomass declined by 50 percent during the 1990s. Recent harvest rates exceed the replacement level for the stock and recruitment has declined. Under the Magnuson-Stevens Act, a Fishery Management Plan (FMP) has been developed for spiny dogfish. The FMP contains a number of measures to reduce harvest, eliminate the directed fishery for spiny dogfish, and thus curtail international trade. Through quota reductions and “trip limits” imposed on each vessel, total catch has been reduced from roughly 30 million pounds in 1999 to less than 4 million pounds in 2001. Further quota reductions are expected in the near future, and severe limitations on poundage that can be landed per trip (currently 500 pounds per vessel) essentially eliminate the high-volume fishery that drove international trade in the 1990s. High-volume trade is necessary to maintain international markets because of the high cost of fishing operations and low wholesale value of the product (approximately 15 cents per pound). Fisheries for spiny dogfish are prosecuted by several countries in the North Atlantic and North Pacific, and we believe it would be difficult or impossible to differentiate Northwest Atlantic S. acanthias specimens from other S. acanthias stocks in trade. Furthermore, the United States believes that rebuilding of this stock can be accomplished under the Magnuson-Stevens Act and, therefore, does not intend to propose this species for listing in CITES Appendix II. We will monitor stock recovery under the Federal FMP (and complementary actions taken in State waters by the Atlantic States Marine Fisheries Commission), and could reconsider listing action before the thirteenth meeting of the Conference of the Parties to CITES (COP13), if the situation warrants it.

29. Orange roughy (Hoplostethus atlanticus)—Proposal for inclusion in Appendix II

The Humane Society International recommended that the United States propose listing orange roughy in CITES Appendix II. Orange roughy is widely distributed in deep water (about 300-1500+ meters) at temperate latitudes in the Pacific, Atlantic, and Indian Oceans. It has not previously been proposed for CITES listing. While it is believed to be only a single species, numerous spawning aggregations have been identified, some of which represent genetically distinct populations. The primary threat to this species is over-exploitation by fisheries. Orange roughy have extremely low productivity relative to most other marine teleosts. Studies have suggested an age of maturity of 20-30 years and a maximum age of 100-200 years. Fecundity is also low by comparison with other marine teleosts. These characteristics make the species vulnerable to over-exploitation and slow to recover or rebuild from over-fishing. Hoplostethus atlanticus is exploited and traded internationally by three primary countries: New Zealand, Australia, and Namibia. Due to its low productivity, orange roughy can be fished down rapidly, and several populations in the waters of these three countries have been reduced to only a small fraction of their unexploited stock size. In all three of the primary capture countries, by far the majority of the landings are exported, with relatively smaller amounts entering into domestic trade.

Major export markets include the United States, Europe, and Japan. However, most of the major orange roughy populations are managed under national fishery management plans in these countries, and quotas and catches are gradually being reduced towards sustainable levels. All three of the primary harvesting countries have rigorous monitoring and surveillance systems in place for this species, and therefore illegal trade is likely to be negligible. Given the management steps being taken by the principal harvesting nations, ongoing monitoring programs, and negligible illegal trade, the United States is not prepared to submit an Appendix-II listing proposal for this species at this time.

30. Patagonian toothfish (Dissostichus eleginoides)—Proposal for inclusion in Appendix II

The Patagonian toothfish, a species of the Family Nototheniidae, is the largest finfish inhabiting the Southern Ocean with any economic importance. The Humane Society International and TRAFFIC North America recommended that the United States propose Patagonian toothfish for listing in Appendix II of CITES, and TRAFFIC International provided a recent report on the toothfish's conservation status for our review. This species has been fished commercially for about 20 years, and management of the species is under the competence of the Commission for the Conservation of Antarctic Marine Living Resources (CCAMLR).

The total reported catch of toothfish within the CCAMLR Convention Area for the 2000/01 split-year was 12,645 tonnes. The reported catch of toothfish from outside the CCAMLR Convention Area was 30,152 tonnes for the 2000/01 split-year. However, surveys in the area have never found fishing concentrations and commercial-scale aggregations of Patagonian toothfish at levels that would support these catch reports. In addition, oceanographic conditions (sub-Antarctic and tropical hydrological fronts) present a barrier to a northern distribution of toothfish into the area. Some of the catch taken outside the CCAMLR Convention Area is legal catch from regulated fisheries in the Exclusive Economic Zones (EEZs) off South America. The remainder of this catch, in all likelihood, is fish poached from the CCAMLR Convention Area by vessels not licensed to fish there, and misattributed to unregulated high seas fisheries outside the Convention Area. The estimated unreported and illegally fished catch of Patagonian toothfish during the 2000/01 split-year was 7,599 tonnes. Therefore, it is estimated that 50,396 tonnes of toothfish were harvested (both legally and illegally, accurately reported and misreported) during the 2000/01 split-year.

There are several characteristics of the life history of D. eleginoides that make the species vulnerable to over-exploitation. The production of large yolky eggs implies that fecundity of Patagonian toothfish is comparatively low. In addition, D. eleginoides matures at a relatively late age, with age at first spawning from 8-10 years of age. The species is relatively slow growing and long-lived, likely surviving to a minimum of 40-50 years old.

CCAMLR adopted a conservation measure to track and monitor trade in Dissostichus spp. (Patagonian and Antarctic toothfish), known as the Catch Documentation Scheme (CDS), which became effective in May 2000. Following its adoption, CCAMLR formed an Informal CDS Working Group. The Group met prior to the 2000 and 2001 meetings of CCAMLR, and CCAMLR, at its 2001 meeting, directed that it continue meeting for 2 to 3 years. Based upon the experience of CCAMLR Members in implementing the CDS, the Working Group recommended (and CCAMLR has adopted) amendments to strengthen the CDS and modifications to the Dissostichus Catch Document (DCD) used in tracking toothfish trade and the Guide to completing the DCD.

The United States announced plans to hold a workshop in 2002 to consider elements of an electronic paperless Web-based CDS. The United States, a major importer of toothfish, plans to propose a pre-approval process for domestic implementation of the CDS in 2002. Electronic processing and pre-approval should make it increasingly difficult to market illegally caught toothfish. CCAMLR created a CDS Fund in 2001, which will be used to fund special needs and special projects of the CCAMLR Secretariat aimed at assisting the development and improving the effectiveness of the CDS.

CCAMLR also adopted a resolution urging States participating in the CDS to consider reviewing their domestic laws and regulations, with a view to prohibiting landings and trans-shipments of toothfish declared in a DCD as having been caught in FAO Statistical Area 51, if a Flag State fails to demonstrate that it verified the DCD using automated satellite-linked Vessel Monitoring System data. Area 51 is outside the CCAMLR Convention Area and appears to be a cover on DCDs for toothfish illegally harvested within the Convention Area.

Given the recent adoption of the CDS, its initial success in limiting trade in illegally caught toothfish, and continuing improvements to the CDS, the United States does not believe that an Appendix-II listing for toothfish is warranted at this time. However, we are interested in re-examining the toothfish trade after we have had more time to evaluate the effectiveness of the CDS, and the ability of CCAMLR to track and monitor the trade in countries which have chosen not to issue DCDs. The United States will continue to assess the level of Illegal Unreported or Unregulated (IUU) fishing and the progress in voluntary implementation of the CDS by non-CCAMLR parties in making decisions prior to COP13. The United States is also considering how fisheries trade tracking and monitoring schemes like the CDS might work in conjunction with a CITES listing to obligate trading partners who are not otherwise covered by, or choose not to become a part of, such schemes.

31. Beluga sturgeon (Huso huso)—Proposal for Transfer From Appendix II to Appendix I

All Acipenseriformes (sturgeon and paddlefish), including the beluga sturgeon, were listed in Appendix II at COP10 in 1997. Historically found in the waters of the Caspian, Black, Azov, and Adriatic Seas, the beluga sturgeon is currently limited to the Caspian and Black Seas. The species has declined as a result of over-harvesting for the caviar trade, illegal harvest and trade (estimated to be ten times greater than legal trade), habitat loss and degradation, and pollution (largely associated with the petro-chemical industry). Over-harvest has sharply increased since dissolution of the Soviet Union in 1991. The species' life history makes it particularly vulnerable to exploitation and depletion. The beluga sturgeon is a long-lived and slow growth species, reaching reproductive age between 11-17 years of age. Furthermore, individuals do not reproduce on an annual basis. Males spawn every 4 to 7 years, while females may only reproduce every 4 to 8 years. The problem is further compounded by the proliferation of dams and other river barriers, which prevent passage of individuals to suitable spawning areas as well as important habitats required for feeding and protection of juveniles and sub-adults.

At the present time, the Caspian Sea population is believed to be so depleted that it may no longer support reproduction in the wild. At its sixteenth meeting in December 2000, the Animals Committee reviewed the status of all Acipenseriformes as part of Phase IV of the Significant Trade Review process, pursuant to Decision 11.95 (Regarding trade in sturgeons and paddlefish) and Resolution Conf. 8.9 (Rev.) (Trade in specimens of Appendix-II species taken from the wild). Based on the information available at the time, the species was placed in Category 1 (according to Decision 11.106 g)), i.e., a “species for which the available information indicates that the provisions of Article IV of the Convention are not being implemented.” Subsequently, at its forty-fifth meeting in June 2001, the Standing Committee adopted the Secretariat's recommendation of limited export quotas, prohibition of the 2001 Fall season harvest, development of regional management plans for sturgeon species from the Black and Caspian Sea, and implementation of a research project to assess the status and abundance of all Caspian and Black Seas sturgeon populations, including the beluga sturgeon. The commitment of range countries to the conservation of the species is exemplified by their adherence to all of the Standing Committee's recommendations. Given these conservation efforts, we believe that transfer of beluga sturgeon from Appendix II to I could be counterproductive and discourage range countries from further implementing the Standing Committee's recommendations. Therefore, the United States does not intend to submit an uplisting proposal at COP12.

Reptiles and Amphibians

32. Ozark hellbender (Cryptobranchus alleganiensis bishopi)—Proposal for Inclusion in Appendix II

The Ozark hellbender is an aquatic salamander, native to streams of the Ozark Plateau in Arkansas and Missouri. It has not previously been proposed for CITES listing. Kelly Irwin, a State herpetologist with the Arkansas Game and Fish Commission, has suggested listing the species in Appendix II. The species is threatened throughout its range by habitat fragmentation due to siltation and erosion from mining, impoundment construction, and timber harvest. Habitat has also been lost due to pesticide and mining residue contamination. Take is not a major threat to this subspecies due to the difficulty of locating and capturing the animal in the wild and maintaining it in captivity as well as laws in range States prohibiting its take. It is considered a Priority 6 candidate species for review by our Division of Endangered and Threatened Species (66 FR 54807-54832, October 30, 2001). Because trade does not constitute a threat to the species, the United States does not intend to submit a proposal to list it in Appendix II.

33. Alligator snapping turtle (Macroclemys temminckii)—Proposal for Inclusion in Appendix II

The alligator snapping turtle is the largest freshwater turtle to inhabit the United States. At COP10, the United States submitted a proposal to include the alligator snapping turtle in Appendix II. The proposal was withdrawn after some countries expressed the view that international trade is minimal and conservation problems for the species should be addressed through domestic measures. There was also opposition from the State of Louisiana to the proposal. Many countries at COP10 indicated that, for an endemic species such as the alligator snapper (which is confined to the United States in river systems that drain into the Gulf of Mexico), inclusion in Appendix III would be preferable. The species is threatened by habitat loss and modification, and harvest for use as pets and for human consumption. Records show a generally steady increase in exports of alligator snapping turtles over the past 12 years from just 290 exported in 1989 to around 23,500 exported in 2000. From our records, we are unable to determine if the origin of these turtles is wild or captive, so the impact of the trade on wild populations is difficult to assess. In addition, few populations of alligator snapping turtle have been well studied, and the effects of harvest on populations is poorly documented.

The U.S. Geological Survey is currently assessing the status of North American turtle species, including the alligator snapping turtle. Information gathered since COP10 more strongly supports the qualification of the species for listing in Appendix II. However, instead of submitting an Appendix-II proposal, we believe that listing the species in Appendix III would improve the regulation, protection, and control of the species in domestic and international trade. Therefore, whereas the United States does not intend to propose this species for listing in Appendix II, we have proposed including the species in Appendix III through our domestic process (see 65 FR 4217).

34. Map turtles (Graptemys spp.)—Proposal for Inclusion in Appendix II

Map turtles are freshwater species that inhabit river systems in the east central portion of the United States, with one species ranging north into southern Canada. At COP10, the United States submitted a proposal to include nine of the 12 species of map turtles in Appendix II (and to leave the three more common species unlisted). The proposal received a majority of votes, but did not receive the two-thirds majority required for adoption (37 votes for and 19 votes against). Map turtles are threatened by habitat loss and modification, poor water quality conditions, and harvest for use as pets and for human consumption. Records show that the export of map turtles has generally steadily increased over the past 12 years. A minimum of 670 turtles were exported in 1989, and a maximum of 202,000 were exported in 2000. From our records, we are unable to determine if the origin of these turtles is wild or captive, so the impact of the trade on wild populations is difficult to assess. In addition, few populations of map turtles have been well studied, and the effects of harvest on populations is poorly documented. The U.S. Geological Survey is currently assessing the status of North American turtle species, including the map turtles. Instead of submitting another Appendix-II proposal for map turtles, we believe that including map turtles in Appendix III would improve the regulation, protection, and control of these species in domestic and international trade. Therefore, whereas the United States does not intend to propose map turtles for listing in Appendix II, we have proposed including the genus in Appendix III through our domestic process (see 65 FR 4217).

35. Common snapping turtle (Chelydra serpentina)—Proposal for Inclusion in Appendix II

The common snapping turtle occurs throughout the United States east of the Rockies, north into southern Canada, and south into Central America, Colombia, and Ecuador. The species has not been proposed previously for CITES listing. Common snapping turtles are harvested in large numbers both for food and for the pet trade. Although certain local or regional populations may have been depleted by over-harvest, this species continues to be generally common and widely distributed. Much of the market is domestic, although international trade involving the United States may be increasing. Over the past 11 years the minimum number of live common snapping turtles exported per year averaged 13,300 specimens. From our records, we are unable to determine if the origin of these turtles is wild or captive, so the impact of the trade on wild populations is difficult to assess. In addition, few populations of common snapping turtles have been well studied, and the effects of harvest on populations are poorly documented. The U.S. Geological Survey is currently assessing the status of North American turtle species, including the common snapping turtle. The species does not appear to qualify for listing in Appendix II at this time, given the general abundance of the species throughout most of its range. Therefore, the United States does not intend to submit a listing proposal for the common snapping turtle at COP12.

36. Spotted turtle (Clemmys guttata)—Proposal for Inclusion in Appendix II

The spotted turtle occurs in southern Ontario, Canada, and in northeastern, upper Midwestern, mid-Atlantic, and southeastern States in the United States. At COP11, the United States submitted a proposal for the listing of the spotted turtle in Appendix II. However, the majority of CITES Parties did not feel that the threat posed by international trade was significant in relation to threats from habitat loss and collection for domestic use, and did not support the proposal. This species was again included among the initial set of species considered for COP12. A large number of commenters recommended that a listing proposal be submitted at COP12. However, no new data were submitted to indicate that a new CITES listing proposal might be successful. Therefore, the United States is unlikely to submit a listing proposal for spotted turtle at COP12. The U.S. Geological Survey is currently conducting an in-depth review of native U.S. turtle species being harvested for domestic and international trade. The final report on this project is due in April 2002. If that report concludes that the spotted turtle deserves CITES protections, the United States may prepare and submit a proposal to list the species in Appendix II.

37. California mountain kingsnake (Lampropeltis zonata)—Proposal for Inclusion in Appendix II

The California mountain kingsnake has a restricted distribution on the west side of the Sierra Nevada mountain range in California and in the coast ranges from southwestern Oregon to northern Baja California, Mexico. Major threats to this species are habitat loss, particularly in southern California, and collection for commercial trade. This species is not currently listed under CITES. It was considered for a possible listing proposal for COP11. However, available information on the status of populations and the impact of collection on populations was, at that time, extremely limited, and appeared inadequate to fulfill CITES listing criteria. Therefore, the United States did not submit a listing proposal for the California mountain kingsnake at COP11. In an effort to gather whatever new information might be available on the status of this species, it was included in the initial set of species being considering for COP12. In response to our request for comments on possible species proposals for COP12, the Humane Society of the United States and the Humane Society International recommended the California mountain kingsnake be listed in Appendix II, while the Western Association of Fish and Wildlife Agencies recommended against listing. However, no new data were submitted by any of the commenters to indicate that CITES listing criteria might be satisfied. Therefore, the United States is unlikely to submit a listing proposal for the California mountain kingsnake at COP12. However, the U.S. Geological Survey is currently conducting an in-depth review of native U.S. snake species being harvested for domestic and international trade. The final report on this project is due in April 2002. If that report concludes that the California mountain kingsnake deserves CITES protection, the United States may prepare and submit a proposal to list the species in Appendix II.

38. Timber rattlesnake (Crotalus horridus)—Proposal for Inclusion in Appendix II

The timber rattlesnake occurs from New England southward through Mid-Atlantic, southeastern, and southern States to Arkansas and Texas. At least two subspecies are recognized. Major threats to this species are habitat loss, particularly den sites in the northern portion of its range and native forest habitat in the southeastern and southern portions of its range, and collection for commercial trade. At COP11, the United States submitted an Appendix-II listing proposal for the timber rattlesnake. However, the majority of CITES Parties did not feel that the threat posed by international trade was significant in relation to threats from habitat loss and collection for domestic use, and did not support the proposal. It was withdrawn from consideration prior to a vote. This species was included among the initial set of species considered for COP12. In response to our initial request for comments, the Minnesota Department of Natural Resources, Humane Society of the United States, and the Humane Society International recommended the timber rattlesnake be listed in Appendix II, but the Florida Fish and Wildlife Commission and Georgia Department of Natural Resources opposed an Appendix-II listing. One commenter recommended Appendix I for the timber rattlesnake, and two organizations recommended Appendix III. Our review of trade data since COP11 indicates that documented trade has increased somewhat. Nevertheless, in the absence of new data on the threats posed by international trade, the United States is unlikely to submit a listing proposal for the timber rattlesnake at COP12. However, if the U.S. Geological Survey report on native U.S. snake species being harvested for domestic and international trade, due in April 2002, concludes that the timber rattlesnake deserves CITES protection, the United States may prepare and submit a proposal to list the species in Appendix II.

39. Eastern diamondback rattlesnake (Crotalus adamanteus)—Proposal for Inclusion in Appendix II

The eastern diamondback rattlesnake ranges along the coastal plain from southeastern North Carolina to the Florida Keys to southern Mississippi and extreme southeastern Louisiana. The major threats to this species include habitat loss and degradation (due primarily to conversion of suitable habitat to loblolly pine plantations, agricultural fields, and commercial and residential areas), collection for trade and rattlesnake roundups, and intentional killing. The species is not currently listed under CITES. It was considered for a possible listing proposal for COP11. However, available information on the status of populations and the impact of collection on populations was, at that time, extremely limited, and appeared inadequate to fulfill CITES listing criteria. Therefore, the United States did not submit a listing proposal for the eastern diamondback rattlesnake at COP11. In response to our initial request for comments on possible species proposals for COP12, the Humane Society of the United States and the Humane Society International recommended the eastern diamondback rattlesnake be listed in Appendix II, but the Western Association of Fish and Wildlife Agencies, Florida Fish and Wildlife Commission, and Georgia Department of Natural Resources opposed an Appendix-II listing. However, no new information was presented on the status of populations or magnitude of harvest.

Our review of trade data since 1996 indicates cause for concern for this species. Over 5,400 skins have been exported since 1999, some 3,600 “skin pieces” were exported in 2000, and over 100 kilograms of meat were exported in 1998. Still, the extent of the threat posed by international trade is poorly understood, and, consequently, the United States does not intend to submit an Appendix-II listing proposal for the eastern diamondback rattlesnake at COP12. We will continue to closely monitor the status of this species. As with the timber rattlesnake, if the U.S. Geological Survey report on native U.S. snake species being harvested for domestic and international trade, due in April 2002, concludes that the eastern diamondback deserves CITES protection, the United States may prepare and submit a proposal to list the species in Appendix II.

40. Prehensile-tailed skink (Corucia zebrata)—Proposal for Transfer From Appendix II to Appendix I

The prehensile-tailed or Solomon Islands skink is found in the lowland primary forests of the Solomon Islands (not a Party to CITES) and the islands of Bougainville and Buka, Papua New Guinea. It was listed in Appendix II on June 6, 1992. No other proposals have been submitted ever since. The primary threats to C. zebrata are habitat destruction and collection for the pet trade. According to WCMC, about 22,900 live specimens of C. zebrata were traded between 1992 and 2000, mostly wild-caught specimens originating from the Solomon Islands. Wild populations of the prehensile-tailed skink are very susceptible to removal of individuals because of the species' delayed reproduction and low fertility. Juveniles reach sexual maturity at 4-6 years of age. Fertility among C. zebrata females is low, with most females breeding biennially. After about seven months of pregnancy, most wild females give birth to a single live offspring. Neonatal mortality may reach up to 40 percent, primarily due to a high incidence of congenital defects.

At its fifteenth meeting in July 1999, the Animals Committee reviewed the status of the C. zebrata as part of Phase IV of the Significant Trade Review process, pursuant to Resolution Conf. 8.9 (Rev.) (Trade in specimens of Appendix-II species taken from the wild). Based on the information available at the time, the species was categorized as a “species with insufficient information” (category d)ii) of Decision 10.79 d); now category 2 of Decision 11.106 g)). As a result of such categorization, the Animals Committee issued primary recommendations, through the CITES Secretariat, to the Solomon Islands requesting detailed information on the distribution and abundance of the species in that country, and the scientific basis for permitting export of the species. Because of the Solomon Islands' failure to respond to the Animals Committee within the 90-day deadline established by Resolution Conf. 8.9 (Rev.), at its forty-fifth meeting in June 2001, the Standing Committee adopted the CITES Secretariat's recommendation that all Parties suspend imports of specimens of C. zebrata from the Solomon Islands, until the Animals Committee recommendations are implemented (Notification No. 2001/043, dated July 9, 2001). Given that this trade suspension remains in effect, the United States does not intend to submit at COP12 a proposal to transfer C. zebrata from Appendix II to I.

41. Madagascar Reptile Species—Proposals for Transfer of Several Species From Appendix II to Appendix I

At the seventeenth meeting of the Animals Committee (July-August 2001) and the eleventh meeting of the Plants Committee (September 2001), it was agreed that both committees, with assistance from the Secretariat, will conduct a country-wide significant trade review pursuant to Resolution Conf. 8.9 (Rev.) (Trade in specimens of Appendix-II species taken from the wild) on Madagascar. The objective of this country-wide review, the first of its kind, is to review trends in trade in Appendix-II species, current concerns about compliance with Article IV, institutional and administrative measures related to implementation of Article IV, and the effectiveness of relevant national legislation and its implementation. Based on the findings made during the country-wide review, the Animals and Plants Committees will draft an implementation plan with recommendations and deadlines for improving management of exports of Appendix-II species from Madagascar. Given the country-wide review being undertaken by the Animals and Plants Committees, the United States does not intend to submit at COP12 the following proposals involving Madagascar species.

The Madagascar big-headed turtle (Erymnochelys madagascariensis), also called the Madagascar sideneck turtle and big-headed Madagascar side-necked turtle, was listed in CITES Appendix II on July 1, 1975. It was proposed for uplisting to Appendix I by James Barzyk, Pro Wildlife, The Humane Society of the United States, L. Elliot, and the Humane Society International. It is found in lakes, rivers, and permanent wetlands in the lowlands of western Madagascar. Most of the remaining populations occur outside of protected areas. Although the biggest threat to this species is consumption by locals, international trade has also contributed to the population decline (the population is expected to decrease by 80 percent over the next 75 years). However, the population data is questionable since much of the western part of the species' range has not been surveyed and historical data is lacking. The Reptile and Amphibian Working Group of the IUCN Captive Breeding Specialist Group is recommending an IUCN listing of Critically Endangered. Because Madagascar's export quota in 2001 was exceeded by 248.0 percent in U.S. imports alone, trade may represent a greater threat to the species than it was throughout the 1990s.

The flat-backed tortoise (Pyxis planicauda) and the spider tortoise (Pyxis arachnoides) were listed in CITES Appendix II on July 1, 1975. The flat-backed spider tortoise, also called the flat-shelled spider tortoise, Madagascar flat-shelled tortoise, and Madagascar flat-tailed tortoise, is found in sandy soil and under leaf litter in the Menabe region of Madagascar. The habitat must have fungi and flowers available seasonally. Its distribution is local and very fragmented, although new subpopulations have recently been discovered. The spider tortoise is found in sandy areas of Didieraceae and Euphorbia forests throughout southern and southwestern coastal Madagascar. Pyxis species mature slowly, have a limited reproductive potential (1-3 eggs per year), and occur in low densities. The populations have likely declined by 80 to 90 percent from peak levels due to habitat loss as well as legal and illegal trade. The species are considered extremely difficult to breed in captivity, and many wild subpopulations are extinct. Because Madagascar's export quota in 2001 for the flat-backed tortoise was exceeded by 113.8 percent and for the spider tortoise by 176.4 percent, in U.S. imports alone, at least nine percent of the flat-backed and 17.6 percent of the spider tortoise wild populations may have been exported to the United States in a single year.

The Parson's chameleon (Chamaeleo [Calumma] parsonii parsonii), one of the three largest species of chameleon in the world, is endemic to the densely forested regions on the eastern half of Madagascar. All chameleons were listed in Appendix II on February 4, 1977. Long-term population studies have not been recorded for any of Madagascar's chameleon species. A field assessment was completed in 1999 for the IUCN Species Survival Commission on nine key Chamaeleo species including C. parsonii. However no specimens of the subspecies C. parsonii parsonii were recorded in the sites surveyed. The largest threat to the survival of C. parsonii parsonii in the wild is habitat destruction, followed by commercial exploitation for the pet trade. The Parson's chameleon is not easily maintained or bred in captivity. Therefore, most specimens in trade are wild-caught. There are currently no recognized breeding programs for C. parsonii parsonii in Madagascar, and past attempts by exporters at hatching the eggs harvested from wild-caught gravid females have been largely unsuccessful. As of August 2001, there were no F2 (second generation) specimens of C. parsonii parsonii in Europe or the United States. Captivity-related stress, disease, and inadequate captive husbandry account for significant levels of early mortality in wild-caught imported specimens regardless of life-stage at import. Wild populations of the Parson's chameleon are very susceptible to removal of individuals because of the species' reproductive biology. Limited biological information from captive management indicates that Parson's chameleons may reach sexual maturity and adult size between three and five years of age, substantially later than any other species of Chamaeleo. Clutch sizes in captivity range between 20-60 eggs, and the interval between clutches is one year. In November 1994, the Standing Committee directed the CITES Secretariat to inform all Parties about its recommendation to suspend imports of several Chamaeleo species (including C. parsonii) from Madagascar because Madagascar had not satisfactorily implemented recommendations of the Animals Committee made in accordance with Resolution Conf. 8.9 (Rev.) (Trade in specimens of Appendix-II species taken from the wild). Field studies to address some of the recommendations of the Animals Committee began in October 1998. As of August 2001, no data has been published from this research, and the CITES suspension on imports of Parson's and other chameleons from Madagascar remains in effect. According to WCMC, approximately 18,600 wild-caught C. parsonii (including C. parsonii cristifer and C. parsonii parsonii) were legally exported from Madagascar from 1986 to 1999, in spite of the fact that the January 20, 1995, import suspension (Notification to the Parties No. 833) remains in effect (Notification to the Parties No. 1999/20). Although the 1995 import suspension has significantly reduced trade in wild-caught specimens of this species, the suspension could be lifted in the future. In the event the Standing Committee decides to lift the suspension and trade resumes, this species would be placed under heavy pressure from collectors due to the international retail market value, which is as much as 25 times higher than the four species currently eligible for exportation from Madagascar, and the highest of any chameleon species.

Birds

42. Yellow-crested cockatoo (Cacatua sulphurea)—Proposal for Transfer From Appendix II to Appendix I

The yellow-crested cockatoo was listed in CITES Appendix II on June 6, 1981. It is endemic to Indonesia, but has been introduced to Singapore and Hong Kong. Trapping for the commercial bird trade and habitat destruction (loss of nest sites) due to agricultural encroachment and illegal timber harvesting have reduced the wild population. Once common, the species is now extinct in parts of its range. This species was proposed by Germany for transfer from Appendix II to I at COP10 and COP11, but the proposals were withdrawn because the Indonesian Government and BirdLife Indonesia had developed a recovery plan for the species, with a goal of establishing a community-based sustainable-use management plan for the species. Furthermore, the Indonesian Government banned the export of the subspecies C. sulphurea citrinocristata in 1992 and all other subspecies in 1995. It is believed that these export bans have been at least partially successful in reducing the level of trade in this species. Dian Agista, a researcher working for the Conservation Programme Department, BirdLife Indonesia, did field surveys in 1999 and 2000. Although she attributes the original decline of the species to over-exploitation for the commercial pet trade in the 1980s, the continuing decline is related to habitat loss. WCMC trade data indicates that most of the exports originated in Indonesia, but 99.3 percent occurred before 1994 and legal exports have dropped significantly since then. We have recently learned that another CITES Party may submit a proposal at COP12 to transfer the yellow-crested cockatoo from Appendix II to I. Therefore, the United States does not intend to submit a similar proposal.

43. Yellow-headed amazon (Amazona oratrix)—Proposal for Transfer From Appendix II to Appendix I

The yellow-headed amazon was listed in CITES Appendix II on June 6, 1981. Defenders of Wildlife and Species Survival Network have proposed that this species be uplisted to Appendix I. The species is found largely in Mexico, with smaller populations in Belize, Guatemala, and Honduras. The present range is similar to the historic range although the distribution has been reduced to isolated sub-populations due to habitat destruction (loss of nest sites) and mostly illegal trapping. The population has declined by 68 percent in the last 10 years, with as few as 7,000 wild birds remaining in Mexico. Its commercial harvest and export is prohibited in Mexico, Belize, and Honduras. The United States considered a similar proposal to transfer this species from Appendix II to I for COP10, but Mexico, the primary range country for the species, did not support such a proposal. Therefore, the United States did not submit a proposal for this species at COP11. From various discussions and meetings with CITES authorities in Mexico, we are aware of efforts in that country to better control domestic trade in indigenous birds. Among other things, Mexico prohibits the export of any native species unless their export is part of an approved community-based, sustainable-use management plan. In part because the yellow-headed amazon is a potential candidate species for a sustainable-use program, Mexico has not supported the transfer of this species to Appendix I. In addition, only two birds were legally exported from the range countries between 1990 and 1999. Most of the legally exported birds were captive-bred.

Although this species is a popular cage bird and has been subject to significant illegal trade between the United States and Mexico in the past, U.S. and Mexican wildlife law enforcement officials already devote significant effort to interdiction of illegal trade in this and other parrot species, and it is doubtful that these enforcement efforts would be affected by transfer of the species to Appendix I. We understand that Mexican and international NGOs will meet in the near future with the Mexican Parrot Steering Committee, part of the National Committee for Wildlife Protection, to discuss the status of the species and whether a species proposal at COP12 is warranted. We are encouraged by Mexico's continuing efforts to assess the conservation and management of this species and the United States will likely support Mexico if a listing proposal is presented at COP12.

44. Peregrine Falcon (Falco peregrinus)—Proposal for Transfer From Appendix I to Appendix II

The peregrine falcon was listed in CITES Appendix I on July 1, 1975. The Western Association of Fish and Wildlife Agencies has requested that the species be downlisted from Appendix I to Appendix II or III. The peregrine falcon has 19 recognized subspecies. It breeds in habitats ranging from tropics to tundra, deserts, marine habitat, and altitudes up to 4000 meters. While the species appears to be recovering in many parts of the Western Hemisphere and was removed from the U.S. Endangered Species List, habitat loss and contamination due to continued use of organochlorines in some countries (including those along migratory routes) continue to threaten the species. There is also a lack of population data for many subspecies.

At the seventeenth meeting of the Animals Committee (July-August 2001), the United States presented its review of the biological status of the peregrine falcon pursuant to the periodic review of the Appendices process (previously Resolution Conf. 9.1, now Conf. 11.1, Annex 2). In the review, the United States presented three options for consideration: (1) Maintain the species in Appendix I, (2) transfer the entire species to Appendix II with a zero quota for wild-caught birds, and (3) transfer certain geographic sub-populations to Appendix II with a zero quota on wild-caught birds. Three countries supported the retention of the species in Appendix I and the review was referred to the working group for further discussion. After lengthy discussions, the working group agreed that, although on a global scale the species did not meet the biological criteria for inclusion in Appendix I, it could not recommend to the Animals Committee that the depository country prepare and submit a proposal to transfer the species to Appendix II because of concerns about the status of certain subspecies and small populations. Given the lack of information available on all subspecies, the lack of monitoring in some countries, the continued decline of some subspecies, and the enforcement difficulties in distinguishing subspecies from each other, the United States does not plan to submit a proposal to transfer the species from Appendix I to II.

Mammals

45. Asian Pangolins (Manis spp.)—Proposal for Transfer From Appendix II to Appendix I

There are three species of Asian pangolin, Manis pentadactyla, M. crassicaudata, and M. javanica, all of which have been listed in CITES Appendix II since 1975. At COP11, the United States co-sponsored a proposal with India, Nepal, and Sri Lanka to transfer all three Asian pangolin species from Appendix II to I, due to over-exploitation for food, skins, and scales. Although there was considerable range country support for this proposal in Committee I at COP11, a compromise was adopted to retain the species in Appendix II with a zero quota on all commercial trade. The compromise was adopted primarily because it would allow the species to remain in the CITES Significant Trade Review process, thereby stimulating needed research and conservation action. However, the Significant Trade Review process for Asian pangolins ended with a CITES Secretariat recommendation that no further action be taken on these species until the zero quota is removed. Removal of the zero quota will require submission of a proposal. In order to solicit whatever new information might have been generated since COP11, these species were included in our first Federal Register notice soliciting information on possible species proposals for COP12. No new information was received. Therefore, the United States does not intend to submit a proposal for Asian pangolins for COP12.

46. Musk Deer (Moschus spp.)—Proposal for Transfer From Appendix II to Appendix I

Musk deer are native to Asia, ranging from eastern Siberia south through Manchuria and central China to the Hindu Kush-Karakoram-Himalayan region of Afghanistan, Pakistan, and India. The number of Moschus species is not resolved, with authorities describing anywhere from four to seven species. This, in turn, affects subspecies classification. The subspecies Moschus moschiferus moschiferus was first listed in CITES Appendix I on July 1, 1975. In 1979, the listing was changed so that M. moschiferus (Himalayan population) was listed in Appendix I and all remaining populations of Moschus spp. were listed in Appendix II. In 1983, the listing was once again changed such that all musk deer populations of Afghanistan, Bhutan, India, Burma/Myanmar, Nepal, and Pakistan were listed in Appendix I and all other musk deer populations were listed in Appendix II.

At COP11, the United States co-sponsored a proposal with India and Nepal to transfer all Appendix-II musk deer taxa to Appendix I, due to over-exploitation for musk glands. The Russian Federation and China were opposed to this proposal, so Resolution Conf. 11.7 (Conservation of and trade in musk deer) and Decisions 11.57, 11.83, 11.92, 11.149 (Regarding musk deer) were adopted as a compromise. These two documents directed the Animals Committee, the Secretariat, and CITES Parties to take various actions on behalf of musk deer research and conservation. The results of the activities were reported at the forty-sixth meeting of the Standing Committee in March 2002. In addition, the musk deer is in the midst of the CITES Significant Trade Review process, with recommendations soon to be issued. As a consequence of these activities, it is unlikely that the United States will submit another proposal to uplist musk deer at COP12. However, if adequate progress is not made, and credible information becomes available indicating that musk deer populations continue to decline, the United States may prepare and submit a proposal for COP12.

47. Saiga (Saiga Tatarica)—Proposal for Transfer From Appendix II to Appendix I

The saiga occurs on the Eurasian steppes of the Russian Federation, Kazakhstan, Uzbekistan, and Mongolia. It was included in Appendix II of CITES on February 16, 1995. Saiga populations numbered over one million as recently as the early 1990s, but have been reduced to only a small fraction of that number over the last four years. The total population estimate for 2000 was 178,000. Population reductions have come about primarily as a result of excessive hunting, but habitat degradation has also played a role. The United States has played an active role in saiga conservation efforts in the past year. We provided a 10,000 dollar grant to A. Luschekina for her saiga research and conservation efforts in the Republic of Kalmykia (Russian Federation). We have also played a leading role in organizing a saiga conservation workshop, to be held in Kalmykia in Spring 2002. This workshop will bring together researchers, conservationists, and government officials to develop an emergency conservation strategy for saiga. The saiga was just reviewed under the CITES Significant Trade Review process. One recommendation from the review was that both the Russian Federation and Kazakhstan should halt export of saiga products; both have agreed to do so. Finally, saiga experts we have consulted have expressed the opinion that an Appendix-I listing for saiga could be counter-productive at this stage. As a consequence of these activities, the United States is unlikely to submit an Appendix-I listing proposal for saiga at COP12.

Request for Information and Comments

We invite any information and comments concerning any of the possible COP12 species proposals, resolutions, decisions, and agenda items discussed above. You must submit your information and comments to us no later than May 17, 2002, to be ensured of consideration.

Reminder of Public Meeting

We remind you that we will hold a public meeting to discuss with you species proposals, proposed resolutions, proposed decisions, and agenda items that the United States is considering submitting for consideration at COP12. We announced this public meeting in our Federal Register notice of March 27, 2002 (67 FR 14728). The public meeting will be held on April 17, 2002, from 1:30 p.m. to 4:30 p.m. in Sidney Yates Auditorium of the Department of the Interior at 18th and C Streets, NW., Washington, DC. You can obtain directions to the building by contacting the Division of Management Authority (see FOR FURTHER INFORMATION CONTACT, above). Sidney Yates Auditorium is accessible to the handicapped. Persons planning to attend the meeting who require interpretation for the hearing impaired should notify the Division of Management Authority as soon as possible.

Future Actions

We expect the CITES Secretariat to provide us with a provisional agenda for COP12 within the next several months. Once we receive the provisional agenda, we will publish it in a Federal Register notice. We will also provide it through our Website.

The United States must submit any species proposals, proposed resolutions, proposed decisions, and agenda items for consideration at COP12, to the CITES Secretariat 150 days prior to the start of the meeting (i.e., by June 6, 2002). We will consider all available information and comments, including those presented at the public meeting (see “DATES” above) or received in writing during the comment period, in deciding which species proposals, proposed resolutions, proposed decisions, and agenda items warrant submission by the United States for consideration of the Parties. Those we decide to submit for consideration at COP12 will be submitted to the CITES Secretariat by June 6, 2002.

Approximately four months prior to COP12, we will announce those species proposals, proposed resolutions, proposed decisions, and agenda items submitted by the United States to the CITES Secretariat for consideration at COP12 by posting a notice on our Website (http://international.fws.gov/global/cites.html).

Through a Federal Register notice approximately two months prior to COP12, we will publish the provisional agenda for COP12 and inform you about proposed U.S. negotiating positions on proposals to amend the Appendices, draft resolutions, draft decisions, discussion papers, and other issues before the Parties for consideration at COP12. We will also publish an announcement of a public meeting that we expect to hold approximately 30 to 45 days prior to COP12, to receive public input on our positions regarding COP12 issues.

Prior to COP12, we will post on our Website any changes the United States makes to its proposed negotiating positions contained in the Federal Register notice referred to in the above paragraph.

Author: The primary authors of this notice are Mark Albert, Division of Management Authority; and Dr. Javier Alvarez, Division of Scientific Authority; under the authority of the U.S. Endangered Species Act of 1973, as amended (16 U.S.C. 1531 et seq.).

Dated: April 1, 2002.
Steve Williams,
Director.

[FR Doc. 02-9512 Filed 4-15-02; 4:56 pm]

BILLING CODE 4310-55-P